DEPARTMENT OF DEFENSE

Office of the Secretary

Proposed Science and Technology (S&T) Reinvention Laboratory Personnel Management Demonstration Project at the U.S. Army Tank-Automotive and Armaments Command (TACOM); Notice

AGENCY: Office of the Deputy Assistant Secretary of Department of Defense (Civilian Personnel Policy), DoD.

ACTION: Notice of proposed demonstration project.

SUMMARY: The National Defense Authorization Act for Fiscal Year 1995, as amended by section 1114 of the National Defense Authorization Act for Fiscal Year 2001, authorizes the Secretary of Defense to conduct personnel demonstration projects at Department of Defense (DoD) laboratories designated as Science and Technology (S&T) Reinvention Laboratories. The above-cited legislation authorizes DoD to conduct demonstration projects that experiment with new and different personnel management concepts to determine whether such changes in personnel policy or procedures would result in improved Federal personnel management.

DATES: To be considered, comments must be submitted on or before January 18, 2002. Public hearings will be scheduled as follows:

1. Tuesday, December 4, 2001, 1 p.m., at USA TACOM, Command Conference Center, Building 1, Picatinny Arsenal, New Jersey 07806.

2. Tuesday, December 11, 2001, 1 p.m., at USA TACOM, Black Hawk Conference Center, Building 110, Rock Island, Illinois 61299.

3. Wednesday, December 12, 2001, 1 p.m., at USA TACOM, Auditorium, Building 200, Warren, Michigan 48397.

Employees located at other sites with video teleconferencing facilities can observe the public hearings and submit their written comments to the address provided below.

At the time of the hearings, interested persons or organizations may present their written or oral comments on the proposed demonstration. The hearings will be informal. However, anyone wishing to testify should contact the person listed under FOR FURTHER INFORMATION CONTACT and state the hearing location, so that DoD can plan the hearings and provide sufficient time for all interested persons and organizations to be heard. Priority will be given to those on the schedule, with others speaking in any remaining available time. Each speaker's presentation will be limited to five minutes. Written comments may be submitted to supplement oral testimony during the public comment period.

ADDRESSES: Written comments may be mailed to Patricia M. Stewart, Civilian Personnel Management Service, CPMS-AF, Suite B-200, 1400 Key Boulevard, Arlington, Virginia 22209-5144.

FOR FURTHER INFORMATION CONTACT: On proposed demonstration project: Gregory L. Berry, USA TACOM, ATTN AMSTA-CM-HD MS #161, 6501 E 11 Mile Road, Warren, Michigan 48397-5000, (810) 574-5053; on proposed demonstration project and public hearings: DoD, Patricia M. Stewart, CPMS-AF, Suite B-200, 1400 Key Boulevard, Arlington, Virginia 22209-5144, (703) 696-1302.

SUPPLEMENTARY INFORMATION: Since 1966, many studies of Department of Defense (DoD) laboratories have been conducted on laboratory quality and personnel. Almost all of these studies have recommended improvements in civilian personnel policy, organization, and management. The proposed project involves: (1) Three appointment authorities (permanent, modified term, and temporary limited); (2) extended probationary period for newly hired Professional and Business Management employees: (3) broadbanding; (4) simplified, accelerated hiring; (5) modified reduction-in-force (RIF) procedures; (6) simplified job classification; (7) a pay-for-performance based appraisal system; (8) academic degree and certificate training; (9) sabbaticals; and (10) a voluntary emeritus corps.

Dated: November 8, 2001.
Patricia L. Toppings,
Alternate OSD Federal Register Liaison Officer, Department of Defense.

Table of Contents

I. Executive Summary

II. Introduction

A. Purpose

B. Problems with the Present System

C. Changes Required/Expected Benefits

D. Participating Locations

E. Participating Employees and Union Representation

F. Project Design

G. Personnel Management Board and Personnel Policy Boards

III. Personnel System Changes

A. Broadbanding

B. Classification

C. TACOM Appraisal and Performance Payout System (TAPPS)

D. Hiring and Appointment Authorities

E. Internal Placement and Pay Setting

F. Employee Development

G. Reduction in Force (RIF)

IV. Implementation Training

A. Policy

B. Supervisors

C. Others Administering the Demonstration Project

D. Employees

V. Conversion

A. Conversion to the Demonstration Project

B. Conversion Out of the Demonstration Project

VI. Project Duration

VII. Evaluation Plan

A. Overview

B. Evaluation Model

C. Evaluation

D. Method of Data Collection

V. Demonstration Project Costs

A. Cost Discipline

B. Developmental Costs

IX. Required Waivers and Adaptations of Law and Regulation

A. Waivers and Adaptations of Title 5, United States Code (U.S.C.)

B. Waivers and Adaptations of Title 5, Code of Federal Regulations (CFR)

C. Adaptation of Title IV of the Federal Employees Pay Comparability Act of 1990 (Public Law 101-509): Federal Law Enforcement Pay Reform

Appendix A: Occupational Series by Occupational Family

Appendix B: Position Description Form (Sample)

Appendix C: Broadband Performance Benchmarks by Occupational Family

Appendix D: TACOM Appraisal and Performance Payout Forms (Samples)

Appendix E: Project Evaluation Model

I. Executive Summary

This project was designed by the U.S. Army Tank-automotive and Armaments Command (TACOM), with participation and review by the Department of the Army (DA) and the Department of Defense (DoD).

The TACOM mission is to generate war-fighting capability for the U.S. Army; to sustain the war-fighting readiness of the Army; to manage the Army's investment in science and technology, research and development, and sustainment; and to serve as the life-cycle manager and integrator for ground combat and support equipment. TACOM's goals are to manage from the customer perspective; increase customer satisfaction; reduce the cost of doing business; and work the partnerships with, and commitments to, our customers, suppliers, associates, and stakeholders. To achieve this mission, TACOM must hire and retain dynamic, enthusiastic, innovative, committed, and highly-educated scientists, engineers, and support personnel who possess and can develop the multiple knowledges, skills, and abilities necessary to meet the challenges of the 21st century.

The purpose of the project is to attain the best possible workforce for TACOM, equip the workforce for change, and improve its ability to execute the TACOM mission. There are five major areas of change: (a) Broadbanding and simplified classification; (b) a pay for performance-based appraisal system; (c) simplified, accelerated hiring; (d) expanded employee development; and (e) modified reduction-in-force (RIF) procedures.

This project is intended to improve the efficiency and effectiveness of the human resources management system in order to attract and retain a workforce that is leader based, business centered and customer focused. The interventions to be demonstrated will link pay to performance; simplify processes and paperwork associated with position classification and other personnel actions; and emphasize productive partnerships among TACOM's leadership, employees, and unions. Additionally, the project's expanded opportunities for employee training and development (along with the redesign of the workforce as a multi-functional, learning organization) will revitalize the business intellect of the TACOM workforce.

TACOM will exercise cost discipline in the development and execution of this project, consistent with the Department of the Army (DA) plan to downsize laboratories. TACOM leadership will manage and control personnel costs to remain within established in-house budgets. An in-house budget is a compilation of costs of the many diverse components required to fund the day-to-day operations of organizations covered by this demonstration. These components generally include pay of people (labor, benefits, overtime, awards), training, travel, supplies, non-capital equipment, and other costs depending on the specific function of the activity.

DoD and the Department of the Army (DA) will provide for an evaluation of the results of the project through the first 5 years after implementation. DA has programmed a decision point 5 years into the project for permanent implementation, modification and additional testing, or termination of the entire demonstration project.

This plan provides a general description of the project's major interventions. Specific operating procedures will provide details on how the personnel demonstration will be implemented.

II. Introduction

A. Purpose

The purpose of the project is to demonstrate that the effectiveness of Department of Defense (DoD) laboratories can be enhanced by expanding opportunities available to employees and by allowing greater managerial control over personnel functions through a more responsive and flexible personnel system. The quality of DoD laboratories, their people, and products has been under intense scrutiny in recent years. A common theme has emerged that Federal laboratories need more efficient, cost effective, and timely processes and methods to acquire and retain a highly creative, productive, educated, and trained workforce. This project, in its entirety, attempts to improve employees' opportunities and provide managers, at the lowest practical level, the authority, control, and flexibility needed to achieve the highest quality organization and hold them accountable for the proper exercise of this authority within the framework of an improved personnel management system.

Many aspects of a demonstration project are experimental. Modifications may be made from time to time as experience is gained, results are analyzed, and conclusions are reached on how the system is working. The provisions of this project plan will not be modified, duplicated in organizations not listed in the project plan, or extended to individuals or groups of employees not included in the project plan without the approval of the Deputy Assistant Secretary of Defense (Civilian Personnel Policy). ODASD(CPP) will inform DA of requirements for notification to stakeholders, which may include Congress, employees, labor organizations, and the public. The extent of notification requirements will depend on the nature and extent of the requested project modification. As a minimum, however, major changes and modifications will be published in the Federal Register. Subject to ODASD(CPP) approval, minor modifications may be made without further notice.

B. Problems With the Present System

The current Civil Service General Schedule (GS) system has 15 grades with 10 steps each and involves lengthy, narrative, individual position descriptions which must be classified by complex, Governmentwide position classification standards. Because these standards have to meet the needs of the entire Federal Government, they are not always responsive to the specific needs of TACOM. Additionally, the classification standards do not provide for a clear progression beyond the full performance level, especially for scientific and engineering occupations where progression through technical, as well as managerial, career paths is important.

The current performance management system does not ensure a positive correlation between compensation and contributions, value to the organization, or support for the goals and objectives of the corporation. One of the goals of this demonstration is to attract and retain a workforce that is leader based, business centered, and customer focused. To this end, TACOM requires a performance appraisal system that emphasizes employees' contributions to the mission. Finally, current rules on degree training, retraining, and otherwise developing employees make it difficult to correct skill imbalances and to prepare current employees for new lines of work to meet changing mission needs.

C. Changes Required/Expected Benefits

The proposed demonstration project will replace GS grades with broadbanding and establish a pay for performance-based appraisal system. In response to skills imbalances, rapidly changing missions, and the challenge of developing multi-functional employees, the project also incorporates modified reduction-in-force processes and an enhanced, expanded program of developmental opportunities.

The primary benefit expected from this demonstration project is greater organizational effectiveness through increased employee satisfaction. The long-standing Department of the Navy China Lake and NIST demonstration projects have produced impressive statistics on increased job satisfaction and quality of employees. This project will demonstrate that a human resources system tailored to the mission and needs of TACOM's workforce will result in increases in the following: (1) Quality of the workforce and its products; (2) timeliness of key personnel processes; (3) retention of high performers; (4) recruitment of personnel with critical skills; (5) management authority and accountability for key personnel processes; (6) satisfaction of TACOM customers; and (7) workforce satisfaction with the personnel management system.

D. Participating Locations

TACOM has approximately 7,500 employees covered by the project at three major sites (Warren, Michigan; Picatinny Arsenal, New Jersey; and Rock Island, Illinois) and numerous other locations worldwide. Approximately 3,900 additional employees are assigned to the Red River Army Depot (RRAD), Texarkana, Texas, to include the Camp Stanley Storage Activity, San Antonio, Texas; and the Anniston Army Depot (ANAD), Anniston, Alabama, to include the Mobile Rail Facility at Hill AFB, Utah. The demonstration project may be implemented incrementally for depot employees, in accordance with the timetable approved by DA in the project's operating procedures and in conjunction with a negotiated agreement with the unions that represent the employees at those sites.

E. Participating Employees and Union Representation

In determining the scope of the demonstration project, primary consideration was given to the number and diversity of occupations within the corporation and the need for adequate development and testing of the appraisal and payout system. Additionally, current DoD human resources management design goals and priorities for the entire civilian workforce were considered. While the intent of this project is to provide TACOM leadership with increased authority and accountability, the decision was made to restrict demonstration project coverage initially to General Schedule (GS/GM) positions.

To this end, the project will cover all competitive and excepted service appropriated fund civilian GS/GM employees. Members of the Senior Executive Service (SES) are excluded; employees classified in the Scientific and Professional (ST) pay plan are excluded from coverage, except for the provisions under III.F., Employee Development.

Federal Wage System (FWS) employees will initially be excluded. However, a decision point has been programmed between 12 and 30 months after initial implementation to determine whether to expand coverage to FWS employees. In the event of expansion to FWS employees, full approval of the decision to do so and of the expansion plan will be obtained from DA and ODASD(CPP).

Defense Civilian Intelligence Personnel System (DCIPS) employees covered by Title 10 are not covered by this demonstration but will follow the same employee development provisions of this plan, except where those provisions are found to be in conflict with DCIPS. DCIPS employees will not be eligible for the educational development payouts, because they are not participating in pay-for-performance initiatives.

Army Civilian Training, Education, and Development System (ACTEDS) interns will not be converted to the demonstration project until they either reach the target grade of the intern program or otherwise become TACOM employees. Locally funded interns and students hired under the Student Education Employment Program are included in this demonstration; however, the degree to which they are covered by the provision of this project plan will be specifically addressed in the project's operating procedures. There will be a special provision for pay setting for TACOM interns, co-ops, and any other employees with whom TACOM establishes a written agreement at the time of selection that spells out developmental goals and specific pay progressions. Pay adjustments equivalent to those received by their peers covered by Title V will be calculated and paid to such employees, in accordance with the written agreement. TACOM Appraisal and Performance Payout System (TAPPS) pay pool funds will not be used to fund these pay adjustments. Details in each individual case will be incorporated into the written training agreement at the time of selection.

The series to be included in the project are identified in Appendix A.

The American Federation of Government Employees (AFGE) and the International Federation of Professional and Technical Engineers (IFPTE) represent many TACOM employees, while several other unions each represent fewer than 100 employees. In all, approximately 87 percent of TACOM's employees are represented by labor unions.

TACOM continues to fulfill its obligation to consult or negotiate with unions that represent both professional and nonprofessional employees, in accordance with 5 U.S.C. 4703(f) and 7117. Union representatives have been jointly involved and collaborated on the development of this project. The unions are an integral part of this personnel demonstration and will be full partners in arriving at major decisions involving project implementation. It is anticipated that this project will be implemented uniformly at all sites; however, the project will be implemented for a given bargaining unit only after there is a written agreement through the collective bargaining process with the affected union. The bargaining units of TACOM that do not initially participate in the demonstration project will participate only when full agreement is reached. The parties may use mediation or any other mutually acceptable means to resolve disputes over the implementation of the project with respect to unit employees. Neither party may request the assistance of the Federal Service Impasses Panel to resolve initial implementation disputes.

Either labor or management may unilaterally withdraw from negotiations over the application of this demonstration project to bargaining unit members at any time up until final agreement approval, without such action being considered an unfair labor practice under Section 7116 of Title 5, United States Code for refusing to negotiate in good faith.

Once a written agreement is reached and approved allowing for the local implementation of the project, all subsequent negotiations during the life of the project shall be subject to binding impasse procedures under section 7119 of Title 5, United States Code, or to alternative impasse procedures agreed to by the parties.

F. Project Design

In June 1995, authority under the DoD Science and Technology (S&T) Reinvention Laboratory Program was extended individually to both TACOM laboratories (the Tank-automotive RDEC and the Armaments RDEC) to design personnel demonstration projects for laboratory employees. In December 1996, TACOM elected to participate in the DoD civilian Acquisition workforce personnel demonstration project for employees not assigned to either laboratory, albeit with concerns regarding the potential implications of multiple personnel systems. In August 1997, in conjunction with dedicated efforts to integrate TACOM mission, business, and data environments, the Commander, TACOM determined the best course of action for TACOM would be to design a single personnel system using the demonstration project authority that could best facilitate the desired mission, goals, objectives, and direction of TACOM leadership and its associates. A Project Task Force was established, with membership from all major TACOM sites, to include representation from TACOM's leadership, associates, the unions, and human resources, to study the demonstration initiatives for the purpose of designing a single plan.

In February 1998, the Commander, TACOM and the Project Task Force, in conjunction with the union leadership, began an extensive communication effort to inform and educate the workforce on these important changes to the personnel management system. Informational videos, brochures, an Internet website, numerous briefings, and other communications media were used. From April through June, the workforce received briefings on first-generation design options for both the science and technology reinvention laboratory (STRL) and Acquisition demonstrations. In July, TACOM employees completed a survey to determine their interest in the options presented.

Based on the feedback from employees, as well as management's desire to make personnel changes that would support reorganization and reculturation efforts, TACOM leadership sought to expand the existing STRL demonstration project authority beyond ARDEC and TARDEC, in order to develop a plan for all of TACOM. In October 1998, TACOM received the necessary authority to do so.

Design of the personnel demonstration was preceded by an exhaustive study of broadbanding and appraisal systems now used in the Federal sector. The later-generation design options evolved from extensive consultation with the designers of other DoD demonstration project plans, in particular the Army Research Laboratory and the DoD civilian Acquisition workforce personnel demonstration projects.

Automated systems will be designed to support computation of performance-related pay increases and awards, and other personnel processes and systems associated with this project.

G. Personnel Management Board and Personnel Policy Boards

As part of the effort to maintain cost discipline, manage project operations, and oversee expenditures, the following board structure will be developed to oversee and manage the demonstration project operations.

1. TACOM Personnel Management Board

TACOM will create a Personnel Management Board to oversee and monitor the fair and equitable implementation of the demonstration project, to include establishment of internal controls and accountability. The board will track personnel cost changes and recommend adjustments, if required, to achieve the objective of cost discipline. In addition, the board will assess the need for changes to demonstration project procedures and policies affecting the entire covered population.

The board's membership will consist of senior leadership of TACOM appointed by the Commander, to include the Director of Human Resources, Chief Counsel, and others as appointed by the Commander for proper management and oversight of the entire demonstration project.

2. TACOM Personnel Policy Boards

In addition to the Personnel Management Board, which has overall responsibility for the project, individual Personnel Policy Boards will be established by major site location to oversee the day-to-day operations of the demonstration project for that specific location. Initially, there will be TACOM Personnel Policy Boards for each of the major site locations. The Commander, or designee, will determine composition of these boards, and as a minimum they will include a representative of each local union that represents participating bargaining unit employees at that site location, the Civilian Personnel Advisory Center (CPAC), the Office of Equal Opportunity, and a representative from the Demonstration Project Task Force. The board will be responsible for, but not limited to, such duties as the following:

(a) Review operation of pay pools and provide guidance to pay pool managers;

(b) Oversee disputes in pay pool issues;

(c) Oversee the civilian pay budget; and

(d) Ensure in-house budget discipline.

These policy boards will also handle local disputes, resolve individual employee situations, and address those other actions not requiring the attention of the Personnel Management Board. They will regularly provide input to the Personnel Management Board regarding the management and effectiveness of the demonstration project at their respective sites.

III. Personnel System Changes

A. Broadbanding

The TACOM demonstration project will use a broadbanding approach to compensation and classification. Such an approach overcomes some of the problems experienced with the current system. A broadbanding system will simplify the classification system by reducing the number of distinctions between levels of work, which will facilitate delegating classification authority and responsibility to line managers. There are several advantages to broadbanding. It is simpler, less time consuming, and less costly to maintain. In addition, such a system is more easily understood by managers and employees, enables classification authority to be easily delegated to managers, coincides with recognized occupational families, and complements the other personnel management aspects of the demonstration project.

The broadbanding system will replace the current General Schedule (GS) structure. Currently, the 15 grades of the General Schedule are used to classify positions and, therefore, to set pay. The broadband levels are designed to enhance pay progression and allow for more competitive recruitment of quality candidates at differing rates within the appropriate broadband level(s). Competitive promotions will be less frequent, and movement through the broadbands will be a more seamless process than today's procedures. Like other broadbanding systems in use, advancement within each pay band is based upon performance. The project's broadbanding scheme covers all General Schedule, white-collar work—administrative, technical, clerical, and professional. Federal Wage System (FWS), Scientific and Professional (ST), Senior Executive Service (SES), and Defense Civilian Intelligence Personnel System (DCIPS) employees are not covered.

1. Occupational Families

Occupations at TACOM have been grouped into three occupational families according to similarities in type of work and customary requirements for formal training or credentials. The specific grouping of GS grades into a particular pay band level was based on a careful examination of the grade levels at which it has proven difficult for managers, employees, and classifiers to distinguish between current performance levels within occupations, and traditional training and career development practices. The common patterns of advancement within the occupations as practiced at TACOM and in the private sector were also considered. The current occupations and grades have been examined, and their characteristics and distribution were used to develop the following three occupational families:

(a) Professional and Business Management (Pay Plan DB): This occupational family includes professional positions, such as engineers, physicists, chemists, psychologists, metallurgists, mathematicians, and computer scientists. It also includes specialized functions in such fields as finance, procurement, human resources, public information, computing, supply, library science, and management analysis. Ordinarily, specific course work or educational degrees (or for non-professional occupations, specialized skills in specific administrative fields) are required.

(b) Technical Support (Pay Plan DE): This occupational family consists of positions that directly support the various professional and business management activities. Employees in these positions are not required to have college course work. However, practical, quasi-professional training and skills in the various aspects of electronic, electrical, mechanical, chemical, or computer engineering are generally required.

(c) General Support (Pay Plan DK): This occupational family is composed of positions for which minimal formal education is needed, but for which special skills, such as office automation, typing, or shorthand, may be required. Clerical work usually involves the processing and maintenance of records. Assistant work requires knowledge of methods and procedures within a specific administrative area. Other support functions include the work of secretaries, police, and firefighters.

Each occupational family broadband will be composed of four or five discrete pay band levels that correspond to recognized advancement within the occupations and the same pay range now covered by two or more GS grades. The broadband levels are designed to maintain the underlying pay structure of the GS grades by combining complete grade pay ranges into the broadband levels.

The occupational broadband families and pay band levels for the occupational families, and how they relate to the current GS framework, are shown in Figure 1.

Figure 1.—Broadbanding Design
Occupational Families | Corresponding GS Grades
| 1 2 3 4 | 5 6 7 8 9 10 11 |  | 12 13 | 14 15 | Above 15
Professional and Business Mgt (DB) | I | II |  | III | IV | V*
| GS-1-4 | GS-5-11 |  | GS-12-13 | GS-14-15 | *Engineers & Scientists Only
Technical Support (DE) | I | II | III | IV | V
| GS-1-4 | GS-5-8 | GS-9-11 | GS-12-13 | GS-14-15
General Support (DK) | I | II | III | IV
| GS-1-4 | GS-5-7 | GS-8-10 | GS-11-13

Not all positions in the occupational broadband families have work assignments that will support movement to the top band. Positions that typically support the higher salaries perform non-supervisory work associated with formulating programs and policies with wide scope and impact. Other positions perform supervision of operating-level programs in one or more administrative/technical fields.

Generally, employees will be converted into the occupational family (broadband) and pay band level that correspond to their GS series and permanent grade of record. Each employee is assured an initial place in the system without loss of pay. As the rates of the General Schedule are increased due to general pay increases, the minimum and maximum rates of the broadband levels will also move up. All employees will receive the general pay increases as the increases are approved, except for some employees in the Professional and Business Management broadband occupational family in Pay Band Level V. Since the maximum rate for Pay Band Level V is linked to ES-4, employees at or near the top of the band may not receive the full general increase if it is not authorized for SES employees. Special salary rates will no longer be applicable to demonstration project employees. All employees will receive future locality pay increases for their geographical area or a staffing supplement (see III E 2 c, Staffing Supplement). Employees can receive pay increases based on their assessments under the TACOM Appraisal and Performance System (TAPPS). Since pay progression through the levels is performance based, there will be no scheduled within-grade increases (WGIs) or quality step increases (QSIs) for employees once the broadbanding system is in place.

Newly hired personnel entering the system will be employed at a pay band level consistent with the expected level of performance of the position and individual basic qualifications for the particular level, as determined by rating against qualifications standards. Starting salary will be determined based upon available labor market considerations relative to special qualification requirements, availability of qualified applicants, programmatic urgency, and the education and experience of the new candidates. In addition to the flexibilities available under the broadbanding system, the authorities for retention, recruitment, and relocation payments granted under the Federal Employees Pay Comparability Act of 1990 (FEPCA) and any other future, similar legislation, can also be used.

2. Simplified Assignment Process

Today's environment of downsizing and workforce transition mandates that TACOM have increased flexibility to assign individuals. Broadbanding can be used to address this need. As a result of a more general position description, the organization will have increased flexibility to assign an employee consistent with the needs of the organization and the individual's qualifications and level, without a position change. Subsequent assignments to projects, tasks, or functions anywhere within the organization requiring the same level, area of expertise, and qualifications would not constitute an assignment outside the scope or coverage of the current position description.

Such assignments within the coverage of the generic descriptions are accomplished without the need to process a personnel action. For instance, a technical expert can be assigned to any project, task, or function requiring similar technical expertise. This flexibility allows broader latitude in assignments and further streamlines the administrative process and system.

3. Pay Band Level V

The TACOM plan expands the broadbanding concept used at China Lake and the National Institute of Standards and Technology (NIST) by creating Pay Band V for engineers and scientists. This pay band is designed for Senior Scientific Technical Managers.

Current legal definitions of Senior Executive Service (SES) and Scientific and Professional (ST) positions do not fully meet the needs of TACOM. The SES designation is appropriate for executive level managerial positions whose classification exceeds the GS-15 grade level. The primary knowledge and abilities of SES positions relate to supervisory and managerial responsibilities. Positions classified as ST are reserved for bench research scientists and engineers; these positions require a very high level of technical expertise, and they have little or no supervisory responsibility.

TACOM currently has a few positions that have characteristics of both SES and ST classifications. Most of these positions are responsible for supervising other GS-15 positions, including branch chiefs, non-supervisory research engineers and scientists, and in some cases, ST positions. These positions are classified at the GS-15 level, although their technical expertise warrants classification beyond GS-15. Because of their management responsibilities, these individuals are excluded from the ST system. Because of management considerations, they cannot be placed in the SES.

TACOM management considers the primary requirements for these positions to be knowledge of, and expertise in, the specific scientific and technology areas related to the mission of their respective areas. Historically, incumbents of these positions have been recognized within the community as scientific and engineering leaders who possess primarily scientific/engineering credentials and are considered experts in their field. However, they must also possess strong managerial and supervisory abilities. Therefore, although some of these employees have scientific credentials that might compare favorably with ST criteria, classification of these positions as STs is not an option, because the managerial and supervisory responsibilities inherent in the positions cannot be ignored.

The purpose of Pay Band Level V is to solve a critical classification problem. It will also contribute to an SES “corporate culture” by excluding from the SES, positions for which technical expertise is paramount. Pay Band V attempts to overcome the difficulties identified in the previous paragraph by creating a new category of positions, the Senior Scientific Technical Manager, which has both scientific/technical expertise and full managerial and supervisory authority.

Current GS-15s will convert into the demonstration project at Pay Band IV. After conversion, their positions will be reviewed against established criteria to determine if they should be reclassified to Pay Band V. Other positions possibly meeting criteria for classification to Pay Band V will be reviewed on a case-by-case basis.

The salary range is a minimum of 120% of the minimum rate of basic pay for GS-15, with a maximum rate of basic pay established at the rate of basic pay (excluding locality pay) for SES Level 4 (ES-4). Vacant positions in Pay Band V will be competitively filled to ensure that selectees are preeminent researchers and technical leaders in the specialty fields who also possess substantial managerial and supervisory abilities.

TACOM will capitalize on the efficiencies that can accrue from central recruiting by continuing to use the expertise of the Army Materiel Command SES Office as the recruitment agent. Panels will be created to assist in filling Pay Band V positions. Panel members will be selected from a pool of current TACOM SES members, ST employees, and, later, those in Pay Band V, and an equal number of individuals of equivalent stature from outside the laboratory to ensure impartiality, diversity, breadth of technical expertise, and a rigorous and demanding review. The panel will apply criteria developed largely from the current OPM Research Grade-Evaluation Guide for positions exceeding the GS-15 level.

DoD will test the establishment of Pay Band V for a 5-year period. Positions established in Pay Band V will be subject to limitations imposed by OPM and DoD. Pay Band V positions will be established only in an S&T reinvention laboratory that employs scientists, engineers, or both. Incumbents of Pay Band V positions will work primarily in their professional capacity on basic or applied research and secondarily perform managerial or supervisory duties.

The number of Pay Band V positions within the Department of Defense will not exceed 40. These 40 positions will be allocated by the Assistant Secretary of Defense (Force Management Policy), and administered by the respective Services. The number of Pay Band V positions will be reviewed periodically to determine appropriate position requirements. Pay Band V position allocations will be managed separately from SES, ST, and SL positions. An evaluation of the Pay Band V concept will be performed during the fifth year of the demonstration project.

The final component of Pay Band V is the management of all Pay Band V assets. Specifically, this authority will be exercised at the DA level and includes the following: authority to classify, create, or abolish positions within the limitations imposed by OPM and DoD; recruit and reassign employees in this pay band; set pay; and appraise performance under this project's pay for performance system. The laboratory wants to demonstrate increased effectiveness by gaining greater managerial control and authority, consistent with merit, affirmative action, and equal employment opportunity principles.

B. Classification

1. Occupational Series

The present General Schedule classification system has 434 occupational series, which are divided into 23 occupational families. The TACOM demonstration project currently has over 100 series that fall into 20 occupational families. The occupational series, which frequently provide well-recognized disciplines with which employees wish to be identified, will be maintained. This will facilitate movement of personnel in and out of the demonstration project. Other series established by OPM may be added as needed to reflect new occupations in the workforce in response to changing missions.

2. Classification Standards

The present system of OPM classification standards will be used to create local benchmark position descriptions for each pay band level, reflecting duties and responsibilities comparable to those described in present classification standards for the span of grades represented by each pay band level. Current series and occupational titles of positions will continue to be used in order to recognize the types of work being performed and the educational backgrounds and requirements of incumbents. Specialty codes and OPM functional codes may be used to facilitate titling, make qualification determinations, and assign competitive levels. References in the position classification standards to grade criteria will not be used as part of this demonstration project. Rather, the appraisal and payout system's standardized rating criteria factors and performance level definitions, as designed in the three broadband occupational families, will be used for the purpose of making broadband/pay band level determinations. These factors/definitions are based on the OPM primary classification standard and eliminate the need for the use of grading criteria in the OPM classification standards. Standardized rating criteria factors and performance level definitions can be found in III.C., TACOM Appraisal and Performance Payout System (TAPPS) and Appendix C, Broadband Performance Benchmarks by Occupational Family.

3. Classification Authority

The TACOM Commander will have delegated classification authority and may re-delegate this authority to subordinate management levels. First-line supervisors will provide classification recommendations. Human resources specialists will provide on-going consultation and guidance to managers and supervisors throughout the classification process.

4. Position Descriptions

Under the demonstration project's classification system, a new position description (like that shown at Appendix B) will replace the current DA Form 374, Department of the Army Job Description. The classification standard used for each pay band level will serve as an important component in the new position description, which will also include position-specific information and provide data element information pertinent to the job. The objectives in developing the new descriptions are to: (a) Simplify the descriptions and the preparation process through the use of standardized rating criteria factors and performance level definitions; (b) provide more flexibility in assigning work; and (c) provide a more accurate and useful tool for other functions of personnel management, such as recruitment, measurement of accomplishments, employee development, and reduction in force.

5. Fair Labor Standards Act

Fair Labor Standards Act (FLSA) exemption or non-exemption determinations will be made consistent with criteria found in 5 Code of Federal Regulations (CFR) Part 551. Each position will be evaluated on a case-by-case basis by comparing the duties and responsibilities assigned, the classification standards for each pay band level, and the 5 CFR Part 551 FLSA criteria. The final review of FLSA status will be made by the servicing Civilian Personnel Operations Center (CPOC).

6. Classification Appeals

Classification appeals under this demonstration project will be processed using the following procedures: An employee may appeal the determination of occupational family, occupational series, position title, and pay band of his/her position at any time. An employee must formally raise the area of concern to supervisor in the immediate chain of command either verbally or in writing. If the employee is not satisfied with the supervisory response, he/she may then appeal to the DoD appellate level. Appeal decisions rendered by DoD will be final and binding on all administrative, certifying, payroll, disbursing, and accounting officials of the government. Classification appeals are not accepted on positions that exceed the equivalent of a GS-15 level. Time periods for cases processed under 5 CFR part 511 apply.

An employee may not appeal the accuracy of the position description, the demonstration project classification criteria or pay-setting criteria; the assignment of occupational series to the occupational family; the propriety of a salary schedule; or matters grievable under an administrative or negotiated grievance procedure, or addressed through an alternative dispute resolution procedure.

The evaluation of classification appeals under this demonstration project is based upon the demonstration project classification criteria. Case files will be forwarded for adjudication through the CPAC/CPOC providing personnel service and will include copies of appropriate demonstration project criteria.

C. TACOM Appraisal and Performance Payout System (TAPPS)

1. Overview

The intent of the TACOM Appraisal and Performance Payout System (TAPPS) is to provide an equitable and flexible method for appraising and compensating employees. This system allows for more employee involvement in the performance appraisal process, increased communication between supervisors and employees, clear accountability of accomplishments and achievements, facilitation of employee progression tied to standardized rating criteria factors, and an understandable basis for performance payout (salary increase and/or bonus) determinations.

2. The TACOM Appraisal and Performance Payout System (TAPPS)

This system provides for a comprehensive, balanced assessment/measurement system that considers employee accomplishments, self-development, and corporate/personal vision. The process under this demonstration project measures an employee's accomplishments against standardized rating criteria factors, rather than individual objectives. In turn, such measurement facilitates performance payout decisions in the form of “share earnings” on the basis of an employee's overall annual accomplishments when compared to their current salary. The performance evaluations made under the demonstration project will ensure that top performers receive a performance payout commensurate with their achievement.

(a) Standardized Rating Criteria Factors and Performance Level Definitions (Broadband Performance Benchmarks)

An employee's accomplishments are measured against standardized rating criteria factors (each of which is a component of the position classification standards) and performance level definitions. Taken together, these factors capture the critical content of jobs in each broadband occupational family. Each factor is considered critical to successful job performance. The factors and performance level definitions may not be modified or supplemented, as they are the same as those used to classify a position at the appropriate pay band level.

The six standardized rating criteria factors are: (1) Problem Solving, (2) Teamwork/Cooperation, (3) Customer Relations, (4) Leadership, (5) Communication, and (6) Resource Management. These rating criteria factors will be used in evaluating the yearly accomplishments of employees within the demonstration project in the three broadband occupational families: (1) Professional and Business Management; (2) Technical Support; and (3) General Support. Each factor is defined and has “sub-factors” to consider, as well as increasing levels of accomplishments (performance) that directly correspond to the appropriate pay band levels. Each performance level presents “performance illustrations” for the respective pay band level within the relevant broadband occupational family. Performance level definitions for each factor in the three broadband occupational families are outlined in Appendix C, Broadband Performance Benchmarks by Occupational Family by Occupational Family.

(b) The Appraisal Process

The TAPPS appraisal cycle is 1 year in duration, beginning April 1 and ending March 31 of the following year. At the beginning of the annual appraisal cycle, an employee's performance benchmarks will be discussed with him/her.

While each of the standardized rating criteria factors is considered a critical part of the job, it may be that a particular factor is considered more important to the employee's performance than another. Given this, and at the discretion of the rating official, rating criteria factors may be weighted consistent with desired performance. Different weights may be applied to factors to produce a weighted average. Weights on factors must add up to 100. Weights will be applied uniformly for similarly situated employees performing the same tasks and approved by the pay pool manager. Employees will be given information as to weighted criteria in conjunction with the performance discussion at the beginning of the appraisal cycle. Upon approval of this plan, demonstration project operating procedures will provide details on weighting rating criteria factors to employees and rating officials.

The minimum period of performance that must be completed before a performance rating may be prepared is 120 days. Employees cannot be rated until they perform under an approved performance plan for at least 120 days.

The purpose of the performance discussion at the beginning of the rating cycle is to ensure the employee understands his/her performance objectives and how their objectives relate to the rating factors and standardized rating criteria. A performance objective is defined as a statement of specific job responsibilities expected of the employee during the rating period. These are to be based on the organization's mission and goals and should be consistent with the employee's position description. While the standardized rating criteria may not be modified or changed, individual performance objectives may be modified and/or changed as appropriate during the rating cycle. As a rule, performance objectives should only be changed when circumstances outside the employee's control prevent or hamper the accomplishment of the original objectives. It is also appropriate to change objectives when mission or workload changes occur.

Rating officials and employee collaboration on the development of specific work assignments and tasks, and objectives, and discussion of the employee's accomplishments within the appraisal system's framework, should be conducted not only at the beginning of the cycle, but regularly throughout the rating period. Disagreements will be handled through the normal chain of command. Management retains the right to establish objectives and identify their importance. Employees retain their current grievance rights. Use of alternative dispute resolution is encouraged.

The rating official will conduct a mid-point performance review to provide feedback to the employee on how well he/she is performing. Additionally, whenever a rating official determines that an employee's accomplishments are at a level that could result in an unacceptable performance rating, the rating official will discuss the situation with the employee in an effort to identify the reasons for poor performance. Corrective actions, to include establishing a performance improvement plan (PIP), may be taken at any time during the rating cycle.

At the end of the appraisal cycle, the employee submits a summary of accomplishments for each of the six factors. Employees will submit their own accomplishments and may also solicit input from team members, customers, peers, supervisors in other organizations, subordinates, and other sources, which will permit the rating official to fully measure the employee's accomplishments during the rating cycle. From the employee's input and the rating official's own knowledge, the rating official identifies, for each employee, the most appropriate performance level (Level I, II, III, IV, or V) and score range (low, medium, or high) for each factor which best describes the level of work accomplished. This rating is called a factor level rating.

Appendix D contains the appropriate appraisal and performance payout forms. All rating officials in a pay pool then meet to reconcile the assigned factor level ratings for all employees within their respective pools, with the purpose being to reach a consensus on the type and level of achievements that warrant particular scores.

Pay pool managers will establish and chair a panel to review supervisors' preliminary factor level ratings and make any necessary adjustments. The panel will consist of all rating supervisors below the pay pool manager. The reconciliation process gives raters the opportunity to verify that their factor level ratings and approach to scoring conform with that of other raters within the pay pool and ensures that performance assessments of employees are comparable and equitable across organizational lines and among occupational families. In this step, each employee's factor level rating is compared and, through discussion and consensus building, a final score is re-affirmed for each factor. The reconciliation process is aimed at determining the relative worth of employee accomplishments. The rationale behind reconciliation is that supervisors within a pay pool will reach a consensus on the type and level of accomplishment that warrant particular scores. Each panel will develop operating procedures that will provide for fair and equitable conclusions within the guidance provided by the Personnel Management and/or Policy Boards. If the panel cannot reach consensus, the pay pool manager makes final decisions. After this reconciliation process is complete, a final overall performance rating score (OPRS) is calculated for each employee.

(c) Pay Pools

The pay pool structure and allocated funds are under the authority of the TACOM Commander, or designee. The following minimal guidelines will apply.

(1) A pay pool is based on the organizational structure and should include a range of salaries and broadband/pay band levels;

(2) A pay pool should be large enough to constitute a reasonable statistical sample (i.e., whenever possible, no fewer than 35 nor more than 300 individuals);

(3) A pay pool should be large enough to include a second level of supervision, since the appraisal process uses a group of rating officials in the pay pool to determine overall performance rating scores and recommended payout determinations; and

(4) Neither the pay pool manager nor the rating officials within a pay pool will recommend or set their own individual performance payout.

(d) The Overall Performance Rating Score (OPRS)

The pay pool panel members calculate each employee's overall performance rating score (OPRS). To determine the OPRS, numerical values are assigned to the factor level ratings assigned to each employee using the ranges shown in Figure 2. Generally, the overall score is calculated by averaging the numerical values assigned for each of the six factors. (All OPRS will be rounded up to the nearest whole number.) In order to ensure accurate assessment and scoring, the overlap of the score ranges among pay band levels (Figure 2) allows for the “exceptional” employee in a particular pay band level to receive scores commensurate with performance at the next higher pay band level. Likewise, an employee may receive a score commensurate with performance in the next lower pay band level. Figure 2 shows the typical OPRS ranges, that is, the minimum and maximum OPRS commensurate with each pay band level.

Figure 2.—Overall Performance Rating Score (OPRS) Ranges by Broadband
Broadband level | GS grades | Normal OPRS range
Professional and Business Management—Broadband Occupational Family
I | 1-4 | 0-32
II | 5-11 | 24-72
III | 12-13 | 67-92
IV | 14-15 | 86-115
V | Above 15 | 105-120
Technical Support—Broadband Occupational Family
I | 1-4 | 0-32
II | 5-8 | 24-56
III | 9-11 | 47-72
IV | 12-13 | 67-92
V | 14-15 | 86-115
General Support—Broadband Occupational Family
I | 1-4 | 0-32
II | 5-7 | 24-50
III | 8-10 | 41-67
IV | 11-13 | 57-96

The pay pool panel conducts a final review of the scores, ensuring equity and consistency in the rating of all employees. Final approval of scores rests with the pay pool manager. The OPRS, as approved by the pay pool manager, becomes the rating of record. Rating officials will communicate the factor scores and overall score to each employee and discuss the panel results.

(e) Standard Pay Table

Each overall performance rating score (OPRS) corresponds to an appropriate salary level (defined as “expected salary”) as determined by the standard pay table (Figure 3). Each employee's expected salary will be determined on the basis of his/her OPRS. The expected salary will then be compared to the employee's current salary, a salary variance computed, and the number of earned shares determined.

The standard pay table provides a direct link between increasing levels of accomplishment and increasing levels of salary. The rating score column spans from 0 to 120, the maximum overall performance rating score attainable. The salary column ranges from $14,244 (equivalent to GS-1, step 1) to $125,500 (the highest level of pay possible at ES level 4). Changes in rating score (0 to 120) correspond to a constant percentage change in salary. This table encompasses the full salary range paid under this demonstration project for calendar year 2001 (GS-1, step 1 through ES level 4). Each year, the standard pay table will be adjusted to reflect changes in the General Schedule pay table and changes to the ES-4 salary level. (This annual adjustment does not require publication of a notice in the Federal Register.) The standard pay table does not include locality pay and is the same for all broadband occupational families.

Figure 3.—2001 Standard Pay Table
Score | Salary | Score | Salary | Score | Salary | Score | Salary
0 | $14,244 | 31 | $24,990 | 61 | $43,054 | 91 | $74,177
1 | 14,505 | 32 | 25,447 | 62 | 43,842 | 92 | 75,534
2 | 14,770 | 33 | 25,913 | 63 | 44,644 | 93 | 76,916
3 | 15,040 | 34 | 26,387 | 64 | 45,461 | 94 | 78,323
4 | 15,316 | 35 | 26,870 | 65 | 46,293 | 95 | 79,757
5 | 15,596 | 36 | 27,361 | 66 | 47,140 | 96 | 81,216
6 | 15,881 | 37 | 27,862 | 67 | 48,003 | 97 | 82,702
7 | 16,172 | 38 | 28,372 | 68 | 48,881 | 98 | 84,216
8 | 16,468 | 39 | 28,891 | 69 | 49,775 | 99 | 85,757
9 | 16,769 | 40 | 29,420 | 70 | 50,686 | 100 | 87,326
10 | 17,076 | 41 | 29,958 | 71 | 51,614 | 101 | 88,924
11 | 17,388 | 42 | 30,506 | 72 | 52,558 | 102 | 90,551
12 | 17,707 | 43 | 31,064 | 73 | 53,520 | 103 | 92,208
13 | 18,031 | 44 | 31,633 | 74 | 54,499 | 104 | 93,895
14 | 18,360 | 45 | 32,212 | 75 | 55,496 | 105 | 95,613
15 | 18,696 | 46 | 32,801 | 76 | 56,512 | 106 | 97,363
16 | 19,039 | 47 | 33,401 | 77 | 57,546 | 107 | 99,144
17 | 19,387 | 48 | 34,012 | 78 | 58,599 | 108 | 100,959
18 | 19,742 | 49 | 34,635 | 79 | 59,671 | 109 | 102,806
19 | 20,103 | 50 | 35,259 | 80 | 60,763 | 110 | 104,687
20 | 20,471 | 51 | 35,912 | 81 | 61,875 | 111 | 106,603
21 | 20,845 | 52 | 36,571 | 82 | 63,007 | 112 | 108,553
22 | 21,227 | 53 | 37,240 | 83 | 64,160 | 113 | 110,540
23 | 21,615 | 54 | 37,922 | 84 | 65,334 | 114 | 112,563
24 | 22,413 | 55 | 38,616 | 85 | 66,530 | 115 | 114,622
25 | 22,842 | 56 | 39,322 | 86 | 67,747 | 116 | 116,720
26 | 23,241 | 57 | 40,042 | 87 | 68,987 | 117 | 118,855
27 | 23,667 | 58 | 40,774 | 88 | 70,249 | 118 | 121,030
28 | 24,100 | 59 | 41,521 | 89 | 71,535 | 119 | 123,245
29 | 24,541 | 60 | 42,280 | 90 | 72,844 | 120 | 125,500
30 | 24,990

Employees may anticipate their corresponding OPRS by locating their salary and the score associated with it (Figure 3).

(f) Salary Variance

Once the OPRS is determined and the employee's expected salary and current salary compared, a salary variance is computed. The formula for determining the salary variance is:

The salary variance is then used to calculate earned shares for each employee in accordance with the guidelines in Figure 4 for purposes of determining performance payout. The number of shares earned by an employee will determine the dollar value of the payout.

Figure 4.—Share Variance/Shares Earned Table
If salary variance is: | Category | Number of shares earned
Less than −8% | E | 4
Greater than or equal to −8% and Less than or equal to 0% | D | 3
Greater than 0% and Less than or equal to 8% | RTC | **2
Greater than 8% and Less than or equal to 16% | B | *1
Greater than 16% | A | 0
* The share earned for a category B salary variance will be paid in the form of a bonus.
** The base increase payout for category C may not exceed the amount needed to raise an employee's salary to 8 percent above the expected salary for their OPRS. The portion of the base increase payout that exceeds this amount will be paid in the form of a bonus.

A pay pool manager may request approval from the Personnel Management Board (PMB) or its designee to grant an employee a performance payout higher than the amount derived by calculating the employee's shares earned. The PMB or designee will document its rationale for granting or denying any such requests.

(g) Share Values and Payouts

Share values will vary depending on the number of employees within a pay pool and the total number of shares earned by all employees in the pool. However, the exact value of a share cannot be determined until the pay pool panel's rating and reconciliation of the employees' OPRS have been completed. Inflated ratings (should they occur) will reduce the value of the share; conversely, lower average ratings will increase the value of a share. The share value is expressed as a percentage of base salary. It is computed by dividing the amount of the pay pool by the sum of each pay pool member's salary multiplied by his/her earned shares, or:

Each employee's performance payout is then calculated by multiplying the share value for the pay pool by the employee's base salary and shares earned, or:

Performance Payout = Share Value × Salary × Shares Earned

(h) Payout Records

Pay adjustments will be documented by SF-50, Notification of Personnel Action. For historical and analytical purposes, the effective date of the TAPPS assessments, actual appraisal scores, actual salary increases, amounts contributed to the pay pool, and applicable bonus amounts will be maintained for each demonstration project employee.

(i) Employees on Retained Rate

Employees on retained rate in the demonstration will receive pay adjustments in accordance with 5 U.S.C. 5363 and 5 CFR 536.101 as waived or modified by IX, Required Waivers and Adaptations to Law and Regulation, of this plan. An employee receiving a retained rate is eligible for a bonus but ineligible for a base salary increase, since such increases are limited by the maximum salary rate for the employee's pay band level.

3. Payout Determinations

The amount of money available for base salary increases and bonuses within a pay pool is determined by the money that would have been available in the General Schedule system for quality step increases, within-grade increases, promotions between grades in the same pay band level, and performance awards. TAPPS provides the ability to make a performance payout in the form of a bonus to employees who are at the top of their pay band level and cannot receive an increase in base pay. Bonuses differ from salary increases in that they are not added to base salary, but rather are given as a lump sum payment. Employees whose performance payout would result in a base salary increase such that the new salary exceeds the maximum salary for their current pay band level shall instead receive a bonus equaling the difference. The dollars to be included in the pay pool will be computed annually based on the salaries of the employees in the pay pool. After the initial assignment into the demonstration project, employees' yearly performance payouts will be determined by the process described in this section.

Performance payout determinations will be made on the basis of the appraisal and OPRS and the employee's rate of basic pay. Final pay determinations will be made at the pay pool manager's level. Overall performance rating scores (OPRS) can only be adjusted after discussion with the pay pool manager.

4. The Base Salary Increase Fund and the Bonus Fund

Cost discipline is ensured within each pay pool by establishing the base salary increase fund with monies that would have been available in the General Schedule system from within-grade increases, quality step increases, and promotions between grades that are now encompassed in the same pay band level. The base salary increase fund will be set at not less than two percent (2%) of the activity's total salary budget.

The bonus fund includes monies that were formerly available for performance awards and that will be used in the demonstration project for awards given under the TAPPS process. The bonus fund will be set at not less than 1.5 percent (1.5%) of the activity's total salary budget. Monies rendered from this fund must be paid in the form of a bonus and cannot be used for increases to base salary.

The TACOM Commander may consider allocating funds above the minimum levels on an annual basis.

5. Awards

Because TAPPS rewards performance as reflected in the employee's most recent OPRS, traditional performance awards under 5 CFR 451.104(a)(3) will not be used under the demonstration project. However, management may continue to grant cash, honorary, or informal recognition awards, or grant time-off without charge to leave or loss of pay, unrelated to the TAPPS process. These awards may include, but are not limited to, value engineering awards, suggestion awards, and special act or service awards. They may be granted by any level of management (including MACOM, DA, and DoD) to individuals or groups of employees. Cash awards are lump-sum payments and are not basic pay for any purpose.

6. Interns

Interns hired into the demonstration project will be placed on an agreement that will allow them to progress in pay increments equivalent to non-demonstration project interns. Operating procedures will be developed to ensure comparability under the demonstration with current pay promotion practices for local interns, as well as other employees who, under pre-demonstration agreements, were competitively selected to progress non-competitively to higher grade(s) than previously held.

D. Hiring and Appointment Authorities

1. Simplified, Accelerated Hiring

The complexity of the current system and various hiring restrictions create delays and hamper management's ability to hire, develop, realign, and retain a quality workforce. Line managers find the complexity limiting as they attempt to accomplish timely recruitment of needed skills. To compete with the private sector for the best talent available and be able to make expeditious job offers, managers need a process that is streamlined, easy to administer, and allows for timely job offers. In order to create a human resource management system that facilitates mission execution and organizational excellence, this demonstration project will respond to today's dynamic environment of downsizing and restructuring by obtaining, developing, utilizing, incentivizing, and retaining high-performing employees. The demonstration project will provide a flexible system that can reduce, restructure, or renew the workforce quickly to meet diverse mission needs, respond to workload exigencies, and contribute to quality products, people and workplaces.

Specifically, this part of the demonstration project will provide simplified, accelerated hiring that allows a more rapid appointment of individuals to positions. Appropriate recruitment methods and sources will include those that are likely to yield quality candidates with the knowledge, skills, and abilities necessary to perform the duties of the position.

(a) Delegated Examining Process

This demonstration project establishes a streamlined examining process. This process may be used to fill positions covered by this demonstration project with the following exceptions: Positions in the Senior Executive Service or the Executive Assignment System, Senior Level (ST/SL) positions; Administrative Law Judge positions; and positions subject to any examining process covered by court order.

The qualifications required for placement into a position in a pay band level within a broadband occupational family will be determined using OPM's Operating Manual, “Qualification Standards for General Schedule Positions.”¹ Since the pay band levels are anchored to the General Schedule grade levels, the minimum qualification requirements for a position will be the requirements corresponding to the lowest General Schedule grade incorporated into that pay band level. For example, the minimum eligibility requirements for a position in Pay Band Level II in the Professional and Business Management broadband occupational family will be the GS-5 qualification requirements for that series. Selective factors may be established for a position in accordance with OPM qualification standards when determined to be critical to successful job performance. These factors become part of the minimum requirements for the position that applicants must meet in order to be eligible. If used, selective factors will be clearly stated as part of the qualification requirements in vacancy announcements and recruiting bulletins.

¹ Available from the U.S. Office of Personnel Management's web site, www.opm.gov.

The “rule of three” will be eliminated. When there are no more than 15 qualified applicants and no preference eligibles, all eligible applicants are immediately referred to the selecting official without rating and ranking. Rating and ranking will be required only when the number of qualified candidates exceeds 15 or there is a mix of preference and non-preference applicants. To ensure selection is made from among the best qualified, demonstration project operating procedures will establish a method to distinguish the relative ability of the candidates. Statutes and regulations covering veterans' preference will be observed in the selection process and when rating and ranking are required. If the candidates are rated and ranked, a random number selection method using the application control number will be used to determine which applicants will be referred when scores are tied after the rating process. Veterans will be referred ahead of non-veterans with the same score.

(b) Distinguished Scholastic Achievement Appointment

This demonstration project establishes a distinguished scholastic achievement appointment using an alternative examining process that provides the authority to appoint undergraduates and graduates through the doctoral level to professional positions at the equivalent of GS-7 through GS-11, and GS-12 professional positions.

At the undergraduate level, candidates may be appointed to positions at a pay level no greater than the equivalent of GS-7, step 10, provided they meet the minimum standards for the position as published in OPM's Operating Manual, “Qualification Standards for General Schedule Positions,” plus any selective factors stated in the vacancy announcement; the occupation has a positive education requirement; and the candidate has a cumulative grade point average of 3.5 or better (on a 4.0 scale) in those courses, in those fields of study, that are specified in the qualifications standards for the occupational series.

Appointments may also be made at the equivalent of GS-9 through GS-12 on the basis of graduate education and/or experience for those candidates with a grade point average of 3.5 or better (on a 4.0 scale) for graduate level courses in the field of study required for the occupation.

Veterans' preference procedures will apply when selecting candidates under this authority. Preference eligibles who meet the above criteria will be considered ahead of non-preference eligibles. In making selections, to pass over any preference eligible(s) to select a non-preference eligible requires approval under current pass-over or objection procedures. Priority must also be given to displaced employees as may be specified in OPM and DoD regulations.

Distinguished scholastic achievement appointments will enable TACOM to respond quickly to hiring needs with eminently qualified candidates possessing distinguished scholastic achievements.

(c) Revisions to Term Appointments

When the need for an employee's services is not permanent, contingent employee appointments (CEAs) may be made under the demonstration project for a period of more than 1 year and up to 5 years. The TACOM Commander, or designee, is authorized to extend a CEA 1 additional year. These employees are entitled to the same rights and benefits as term employees and will serve a probationary period of the length prescribed for the pay band level into which hired. Appointments will be made under the same appointment authorities and processes as regular term appointments, but vacancy announcements must indicate that there is a potential for conversion to permanent employment.

Employees hired under the CEA authority may be eligible for conversion to career-conditional appointments. To be converted, the employee must (1) have been selected for the CEA position under competitive procedures, with the announcement specifically stating that the individual(s) selected for the CEA position(s) may be eligible for conversion to career-conditional appointment at a later date; (2) served two years of continuous service in the CEA position; (3) be selected under merit promotion procedures for the permanent position; and (4) have a current performance rating above the minimum value of the point range for the broadband level to which the employee is assigned.

Employees serving under regular term appointments at the time of conversion to the demonstration project will be converted to the new contingent employee appointments, provided they were hired for their current positions under competitive procedures. These employees will be eligible for conversion to career-conditional appointment if they have a current rating of satisfactory or better and are selected under merit promotion procedures for the permanent position after having completed 2 years of continuous service. Time served in term positions prior to conversion to the contingent employee appointment is creditable for this service requirement, provided the service was continuous.

2. Extended Probationary Period

For new employees appointed to non-supervisory/non-managerial positions in the Professional and Business Management broadband occupational family, the current 1-year probationary period will be extended to 3 years. (However, employees appointed prior to the implementation date of this demonstration project will not be affected by this change.) The purpose of extending the probationary period is to allow supervisors an adequate period of time to fully evaluate an employee's ability to complete a cycle of work (such as research, program development and execution, and/or technology transfer) and to fully evaluate an employee's accomplishments and conduct. In particular, supervisors of employees serving on rotating internships will now have sufficient time to directly supervise and evaluate the employee's work. New employees appointed in the Technical and General Support broadband occupational families will continue to serve a 1-year probationary period. The required probationary period will apply only to new hires subject to a probationary period.

If a probationary employee's performance is determined to be satisfactory at a point prior to the end of the required probationary period, a supervisor has the option of ending the probationary period at an earlier date, but not before the employee has completed 1 year of continuous service. The supervisor will develop a written rationale for exercising this option and elevate it, at a minimum, to the next higher level of management for review before implementing the option. Specific guidance with respect to the review process will be outlined in demonstration project operating procedures.

All other existing provisions pertaining to probationary periods are retained, including limited notice and appeal rights and crediting prior service. Prior Federal civilian service (including nonappropriated fund service; service in temporary or term positions; and service under a contingent employee appointment, with no break in service, before a permanent appointment made under this demonstration project) counts toward completion of probation when the service is in the Department of the Army, is in the same line of work, and contains or is followed by no more than a single break in service that does not exceed 30 calendar days.

3. Supervisory Probationary Periods

New supervisors, that is, those who have not previously completed a supervisory probationary period, will be required to complete a one-year probationary period for the initial appointment to a supervisory position. An additional supervisory probationary period of 1 year will be required when an employee is officially assigned to a different supervisory position that constitutes a major change in supervisory responsibilities from the supervisory position where the previous probationary period was previously completed. During the probationary period, the decision can be made to return the employee to a non-supervisory position, but only for reasons related to supervisory performance or conduct.

4. Voluntary Emeritus Program (VEP)

Under the demonstration project, retired or separated individuals may be offered voluntary positions under the voluntary emeritus program (VEP). Such assignments are not considered employment by the Federal Government (except for purposes of injury compensation). Thus, such assignments do not affect an employee's entitlement to buy-outs or severance payments based on an earlier separation from Federal service. The voluntary emeritus program will ensure continued quality work performance while reducing the overall salary line by typically allowing higher paid individuals to accept retirement incentives with the opportunity to retain a presence in the TACOM community. The program will be of most benefit during manpower reductions, as employees could accept retirement and return to provide valuable on-the-job training or mentoring to less-experienced employees.

To be accepted into the emeritus program, a volunteer must be recommended by a management official and approved by the TACOM Commander, or designee. Not everyone who applies is entitled to an emeritus position. Management must clearly document the decision process for each applicant (whether accepted or rejected) and retain the documentation throughout the assignment. Documentation of rejections will be maintained for 2 years.

To ensure success and encourage participation, the volunteer's Federal retirement pay (whether military or civilian) will not be affected while serving in a voluntary capacity. Retired or separated Federal employees may accept an emeritus position without a break or mandatory waiting period.

Voluntary emeritus program volunteers will not be permitted to monitor contracts on behalf of the Government. The volunteers may be required to submit a financial disclosure form annually and will not be permitted to participate on any contracts where a conflict of interest may exist. The same rules that currently apply to source selection members will apply to volunteers.

A written agreement must be finalized with the volunteer before the assumption of duties commences and shall include:

(a) A statement that the voluntary assignment does not constitute an appointment in the civil service and is without compensation, and any and all claims against the Government because of the voluntary assignment are waived by the volunteer;

(b) A statement that the volunteer will be considered a Federal employee for the purpose of injury compensation;

(c) The volunteer's work schedule;

(d) The length of agreement (defined by length of project or time defined by weeks, months, or years);

(e) Any support provided by TACOM (travel, administrative, office space, and supplies);

(f) A one-page statement of duties and experience;

(g) A statement providing that no additional time will be added to volunteer's service credit for such purposes as retirement, severance pay, and leave as a result of participating in the voluntary emeritus program;

(h) A provision allowing either party to void the agreement with 10 working days written notice; and

(i) The level of security access required (any security clearance required by the position will be managed by TACOM while the volunteer is participating in the emeritus program).

E. Internal Placement and Pay Setting

Rules for specific types of assignments under the demonstration project follow.

1. Changes in Assignment

(a) Promotions

A promotion is the movement of an employee to a higher pay band level in the same occupational family or to a pay band level in a different occupational family that results in an increase in the employee's salary. (Pay progression within a pay band level will be accomplished under TAPPS; it is not a promotion and thus is not subject to the provisions of this section.). Except as specified at E.1.(b), promotions will be processed under competitive procedures in accordance with merit principles and requirements of the local merit promotion plan.

(b) Exceptions from Competitive Procedures

The following actions are excepted from competitive procedures:

(1) Re-promotion to a position that is in the same pay band andoccupational family as the employee previously held on a permanent basis within the competitive service;

(2) Promotion, reassignment, demotion, transfer, or reinstatement to a position having promotion potential no greater than the potential of a position an employee currently holds or previously held on a permanent basis in the competitive service;

(3) A position change permitted by reduction-in-force procedures;

(4) Promotion without current competition when the employee was appointed through competitive procedures to a position with a documented career ladder;

(5) A temporary promotion or detail of 180 days or less to a position in a higher pay band

(6) Reclassification to include impact-of-person-in-the-job promotions;

(7) A promotion resulting from the correction of an initial classification error or the issuance of a new classification standard; and

(8) Consideration of a candidate not given proper consideration in a competitive promotion action.

(c) Details

Under this demonstration, employees may be detailed to a position in the same pay band level (requiring a different level of expertise and qualifications) or lower pay band level (or its equivalent in a different occupational family) for up to 1 year. Details may be implemented by submitting one personnel action (PERSACTION) to cover the 1-year period. Details to duties in a higher pay band level for more than 180 days will be implemented using competitive procedures.

2. Pay Fixing Policy and Pay Setting

The TACOM Commander will establish pay administration policies. TACOM policies for employees within the demonstration project will conform to basic Government pay fixing policy and the provisions of this demonstration project plan; however, the TACOM policies will be exempt from Army regulations or local pay fixing policies, except where negotiated agreements prevail. Firefighter pay is covered under 5 U.S.C. 5545b and 5 CFR part 550, subpart M.

(a) Policy

Highest previous rate (HPR) will be considered in placement actions for which authorized under rules similar to the HPR rules in 5 CFR 531.203(c) and (d). Use of HPR will be at the supervisor's discretion. The pay retention provisions of 5 U.S.C. 5363 and 5 CFR 536.101 will apply to this plan except where waived or modified as specified in the waiver section. Pay retention may also be granted by the TACOM Commander to employees who meet general eligibility requirements but do not have specific entitlement by law, provided not specifically excluded.

An employee's total monetary compensation paid in a calendar year may not exceed the basic pay of level I of the Executive Schedule, consistent with 5 U.S.C. 5307 and 5 CFR part 530, subpart B.

When a temporary promotion is terminated, the employee's pay entitlements will be re-determined based on the employee's position of record, with appropriate adjustments to reflect pay events during the temporary promotion, subject to the specific policies and rules established by TACOM. In no case may those adjustments increase the pay for the position of record beyond the applicable pay range's maximum rate.

(b) Pay Setting

(1) Promotion. Upon promotion to a higher pay band level, an employee will be entitled to a 6 percent increase in base pay or the lowest level in the pay band level to which promoted, whichever is greater. For employees assigned to occupational categories and geographic areas covered by special rates, the minimum salary rate in the pay band to which promoted is the minimum salary for the corresponding special rate or locality rate, whichever is greater. For employees covered by a staffing supplement, the demonstration staffing adjusted pay is considered basic pay for promotion calculations. Highest previous rate may also be considered in setting pay upon promotion, under rules similar to the highest previous rate rules in 5 CFR 531.203(c) and (d).

(2) Competitive Selection for a Position with Higher Potential Salary. When an employee is competitively selected for a position with a higher target career level than previously held (e.g., Upward Mobility), upon movement to the new position, the employee will receive the salary corresponding to the minimum of the new broadband level or the existing salary, whichever is greater.

(3) Voluntary Change to Lower Pay Band Level/Change in Career Path (except RIF). When an employee accepts a voluntary change to lower pay band level or different career path, salary may be set at any point within the new pay band level, except that the new salary will not exceed the employee's current salary or the maximum salary of the pay band level to which assigned, whichever is lower.

(4) Involuntary Reduction in Pay, Change to Lower Pay Band Level, and/or Change in Career Path Due to Adverse or Performance-based Action. When an employee is changed to a lower pay band level, moves to a new position in a different career path, or receives a reduction in pay within his/her existing pay band level and career path due to adverse or performance-based action, then the employee's salary will be reduced by at least 6 percent, but will be set no lower than the minimum salary of the pay band level to which assigned. Employees placed into a lower pay band level due to adverse or performance-based action are not entitled to pay retention.

(5) Involuntary Change to Lower Pay Band Level or Change in Career Path, Other than Adverse or Performance-based Action. If such an involuntary change is not a result of an adverse or performance-based action, the salary will be maintained to the extent possible within the salary range of the new pay band and/or career path. If position reclassification resulting in the employee's being assigned to a lower pay band level or different career path, the employee is entitled to pay band level and pay retention in accordance with the provisions of 5 U.S.C. 5361-5366 and 5 CFR part 536 (as waived or modified by this demonstration project).

(6) Reduction-in-Force (RIF) Action (including employees who are offered and accept a vacancy at a lower pay band level or in a different broadband occupational family). The employee is entitled to pay band level and pay retention in accordance with the provisions of 5 U.S.C. 5361-5366 and 5 CFR part 536 (as waived or modified by this demonstration project).

(7) Return to Limited or Light Duty from a Disability as a Result of Occupational Injury to a Position in a Lower Pay Band Level or to a Career Path with Lower Salary Potential than Held Prior to the Injury. The employee is entitled to wage loss compensation from the Department of Labor, Office of Workers Compensation Programs, based upon the difference between the pay band level held on the date of injury and the pay band level of the limited duty position.

(c) Staffing Supplement

Employees assigned to occupational categories and geographic areas covered by special rates will be entitled to a staffing supplement if the maximum adjusted rate for the banded GS grades to which assigned is a special rate that exceeds the maximum GS locality rate for the banded grades. The staffing supplement is added to base pay, much like locality rates are added to base pay. For employees being converted into the demonstration, total pay immediately after conversion will be the same as immediately before, but a portion of the total pay will be in the form of a staffing supplement. Adverse action and pay retention provisions will not apply to the conversion process, as there will be no change in total salary. The staffing supplement is calculated as described in this section.

Upon conversion, the demonstration base rate will be established by dividing the employee's former GS adjusted rate (the higher of special rate or locality rate) by the staffing factor. The staffing factor will be determined by dividing the maximum special rate for the banded grades by the GS unadjusted rate corresponding to that special rate (step 10 of the GS rate for the same grade as the special rate). The employee's demonstration staffing supplement is derived by multiplying the demonstration base rate by the staffing factor minus one. Therefore, the employee's final demonstration special staffing rate equals the demonstration base rate plus the staffing supplement. This amount will equal the employee's former GS adjusted rate. Simplified, the formula is this:

Example: Assume there is a GS-801-11, step 03, employee assigned to Picatinny Arsenal, NJ, who is entitled to the greater of a special salary rate of $53,648 or a locality rate of $48,763 ($42,918 + 13.62 percent). The maximum special rate for a GS-801-11, step 10 is $65,381, and the corresponding GS unadjusted rate is $52,305. The maximum GS-11 locality rate in New Jersey is $59,429 ($52,305 + 13.62 percent), which is less than the maximum special salary rate. Thus, a staffing supplement is payable. The staffing factor is computed as follows:

Staffing factor = $65,381/$52,305 = 1.2500

Demonstration base rate = $53,648/1.2500 = $42,918

Then to determine the staffing supplement, multiply the demonstration base by the staffing factor minus 1.

Staffing supplement = $42,918 − 0.2500 = $10,730

The staffing supplement of $10,730 is added to the demonstration base rate of $42,918, and the total salary is $53,648, which is the salary of the employee before conversion.

If an employee is in a band where the maximum GS adjusted rate for the banded grades is a locality rate, when the employee enters into the demonstration project, the demonstration base rate is derived by dividing the employee's former GS adjusted rate (the higher of locality rate or special rate) by the applicable locality pay factor. The employee's demonstration locality-adjusted rate will equal the employee's former GS adjusted rate. Any GS or special rate schedule adjustment will require computing the staffing supplement again. Employees receiving a staffing supplement remain entitled to an underlying locality rate, which may over time supersede the need for a staffing supplement. If OPM discontinues or decreases a special rate schedule, pay retention provisions will be applied. Upon geographic movement, an employee who receives the staffing supplement will have the supplement recomputed. Any resulting reduction in pay will not be considered an adverse action or a basis for pay retention.

Calculation of the staffing supplement discussed above was presented in the context of a General Schedule employee entering the demonstration project. Application of the staffing supplement is normally intended to maintain pay comparability for General Schedule employees entering the demonstration project. Application of the staffing supplement is normally intended to maintain pay comparability for General Schedule employees entering the demonstration. However, the staffing supplement formulas must be compatible with non-Government employees entering the demonstration and adaptable to the special circumstances of employees already in the demonstration.

The following principles will govern the modifications necessary to the previous staffing supplement calculations to apply the staffing supplement to circumstances other than a General Schedule employee entering the demonstration project. No adjustment under these provisions will provide an increase greater than that provided by the special salary rate. An increase provided under this authority is not an equivalent increase, as defined by 5 CFR 531.403. These principles are stated with the understanding that the necessary conditions exist that require the application of a staffing supplement.

(1) If a non-Government employee is hired into the demonstration, then the employee's entry salary will be used for the term, “former GS adjusted rate” to calculate the demonstration base rate.

(2) If a current employee is covered by a new or modified special salary rate table, then the employee's current demonstration base rate is used to calculate the staffing supplement percentage. The employee's new demonstration adjusted base salary is the sum of the current demonstration base rate and the calculated staffing supplement.

(3) If a current employee is in an occupational category that is covered by a special salary rate table and subsequently, the occupational category becomes covered by a different special salary rate table with a higher value (e.g., a DB 854-II originally covered by table 0422 is subsequently covered by table 999E, which is a higher rate schedule), then the following steps must be applied to calculate a new demonstration base rate:

Step 1. To obtain a relevance factor, divide the staffing factor that will become applicable to the employee by the staffing factor that would have applied to the employee. For example, table 999E (Special Salary Rate Table for Certain Information Technology Employees, containing 2001 rates for New Jersey) is applicable to a DB 854-II employee, and the applicable staffing factor is 1.25 ($65,381/$52,305). For table 0422 (the table that would have applied if table 999E had not been implemented), the applicable staffing factor is 1.1281 ($59,010/$52,305). Thus:

Relevance factor = 1.25/1.1281 = 1.108

Step 2. Multiply the relevance factor resulting from step 1 by the employee's current adjusted demonstration rate to determine a new adjusted demonstration rate.

Step 3. Divide the result from step 2 by the applicable staffing factor to derive a new demonstration base rate. This new demonstration base rate will be used to calculate the staffing supplement and the new demonstration adjusted base salary.

(4) If, after the establishment of a new or adjusted special salary rate table, an employee enters the demonstration (whether converted from the General Schedule or hired from outside Government) prior to this intervention, then the employee's current adjusted base salary is used for the term “former GS adjusted rate” to calculate the demonstration base rate. This principle prevents double compensation due to the single event of a new or adjusted special salary rate table.

(5) If an employee is in an occupational category covered by a new or modified special salary rate table, and the pay band to which assigned is not entitled to a staffing supplement, then the employee's salary may be reviewed and adjusted to accommodate the salary increase provided by the special salary rate. The review may result in a one-time pay increase if the employee's salary equals or is less than the highest special salary grade and step that exceeds the comparable locality grade and step. Demonstration project operating procedures will identify the officials responsible to make such reviews and determinations. The applicable salary increase will be calculated by determining the percentage difference between the highest step 10 special salary rate and the comparable step 10 locality rate and applying this percentage to the demonstration base rate.

An established salary including the staffing supplement will be considered basic pay for the same purposes as a locality rate under 5 CFR 531.606(b), i.e., for purposes of retirement, life insurance, premium pay, severance pay, and advances in pay. It will also be used to compute worker's compensation payments and lump-sum payments for accrued and accumulated annual leave.

3. Supervisory and Team Leader Pay Differentials

Supervisory and team leader pay differentials may be used, at the discretion of the TACOM Commander or designee, to incentivize and reward supervisors and team leaders, with the exception of those in the Professional and Business Management broadband occupational family's “above GS-15” pay band level V for engineers and scientists. Employees in supervisory positions with formal supervisory authority meeting that required for coverage under the OPM GS Supervisory Guide may be considered for a supervisory pay differential. Employees in team leader positions with leader authority meeting that required for coverage under the OPM GS Leader Grade-Evaluation Guide may be considered for a team leader pay differential.

A supervisory pay differential is a cash incentive that may range up to 10 percent of the supervisor's basic rate of pay. A team leader pay differential is a cash incentive that may range up to 5 percent of the team leader's basic rate of pay. Differentials may be paid as a one-time lump sum amount, or on a pay period basis for a specified period of 1 year or less. Differentials are not included as part of the recipient's basic rate of pay.

Criteria to be considered in determining the differential percentage include the following organizational and individual employee factors and are further defined in the demonstration project operating procedures: (a) Needs of the organization to attract, retain, and motivate high quality supervisors and team leaders; (b) budgetary constraints; (c) years of supervisory or team leader experience; (d) amount of supervisory or leadership training received; (e) performance appraisals and experience as a group or team leader; (f) organizational level of supervision; and (g) managerial impact on the organization.

The differential may be considered, either during conversion into or after initiation of the demonstration project, if the supervisor or team leader has subordinate employees in the same pay band level. The differential must be terminated if the employee is removed from a supervisory or team leader position, regardless of cause, or no longer meets established eligibility criteria. Supervisory and team leader pay differentials will not be funded from performance pay pools.

After initiation of the demonstration project, all personnel actions involving a supervisory or team leader pay differential will require a statement signed by the employee acknowledging that the differential may be terminated or reduced at the discretion of the TACOM Commander or designee. The termination or reduction of the differential is not an adverse action and is not subject to appeal.

4. Performance-Based Reduction-in-Pay or Removal Actions

This section applies to reduction in pay or removal of demonstration project employees based solely on unacceptable performance. Unacceptable performance at any time during the appraisal period is considered grounds for initiation of reduction in pay or removal action. The following procedures replace those established in 5 U.S.C. 4303 pertaining to reductions in grade or removal for unacceptable performance, except with respect to appeals of such actions. 5 U.S.C. 4303(e) provides the statutory authority for appeals of performance-based actions. As is currently the situation for performance-based actions taken under 5 U.S.C. 4303, performance-based actions under the demonstration project shall be sustained if the decision is supported by substantial evidence, and the Merit Systems Protection Board shall not have mitigation authority with respect to such actions. The separate statutory authority to take performance-based actions under 5 U.S.C. 75, as modified in the waiver section of this notice (section IX), remains unchanged by these procedures.

Unacceptable performance is performance that meets either of the following definitions.

(a) Unacceptable performance is performance that results in a salary variance greater than +16% with an OPRS that is below the lowest value of the point range for the broadband level to which the employee is assigned. In this case, the supervisor must inform the employee in writing that, unless performance increases to a level that results in a salary variance less than or equal to +16% (thereby meeting the definition of acceptable performance) and is sustained at that level, the employee may be reduced in pay or removed. This written notification will include a performance improvement plan (PIP) that outlines specific areas in which the employee is performing unacceptably. Additionally, the PIP must include standards for acceptable performance, corrective actions required of the employee, and the time in which they must be accomplished to increase and sustain the employee's performance at an acceptable level. The PIP must specify improvements in any factor level rating(s) required to meet the maximum acceptable salary variance (+16%).

(b) Alternatively, unacceptable performance is performance that results in a salary variance greater than +16% with an OPRS at or above the lowest value of the point range for the broadband level to which the employee is assigned. In this case, management may either: (1) Provide written notification and place the employee on a PIP, or (2) take no action, but document this decision in a memorandum for the record, a copy of which must be furnished to the employee and to higher levels of management.

When the rating official informs the employee that the employee may be reduced in pay or removed, the rating official will afford the employee a reasonable opportunity (a minimum of 60 days) to demonstrate acceptable performance. As part of the employee's opportunity to demonstrate acceptable performance, he or she will be placed on a PIP. The PIP will state how the employee's performance is unacceptable and include what improvements are required, recommendations on how to achieve acceptable performance, assistance that the agency shall offer to the employee in improving unacceptable performance, and consequences of failure to improve.

Once an employee has been afforded a reasonable opportunity to demonstrate acceptable performance but fails to do so, a reduction in pay (which could result in a change to a lower pay band level and/or reassignment) or removal action may be proposed. If the employee's performance increases to an acceptable level and is again determined to have deteriorated to an unacceptable level within 2 years from the beginning of the opportunity period, actions may be initiated to effect reduction in pay or removal with no additional opportunity to improve. If an employee has performed acceptably for 2 years from the beginning of an opportunity period and the employee's overall performance once again declines, the employee will be afforded an additional opportunity to demonstrate acceptable performance before it is determined whether or not to propose a reduction in pay or removal.

An employee whose reduction in pay or removal is proposed is entitled to a 30-day advance notice of the proposed action that identifies specific instances of unacceptable performance by the employee on which the action is based. The employee will be afforded a reasonable time to answer the notice of proposed action orally and/or in writing.

A decision to reduce in pay or remove an employee for unacceptable performance may be based only on those instances of unacceptable performance that occurred during the 2-year period ending on the date of issuance of the proposed action. The employee will be issued written notice at or before the time the action will be effective. Such notice will specify the instances of unacceptable performance by the employee on which the action is based and will inform the employee of any applicable appeal or grievance rights.

All relevant documentation concerning a reduction in pay or removal that is based on unacceptable performance will be preserved and made available for review by the affected employee or designated representative. At a minimum, the records will consist of a copy of the notice of proposed action; the written answer of the employee or a summary thereof when the employee makes an oral reply; and the written notice of decision and the reasons for the decision, along with any supporting material including documentation regarding the opportunity afforded the employee to demonstrate acceptable performance.

F. Employee Development

1. Expanded Developmental Opportunities

TACOM's evolving, multi-faceted mission requires a new learning paradigm that will engage its workforce in acquiring multiple knowledge, skills and abilities that prepare every employee to meet the future head on. An expanded developmental opportunity program will significantly assist in creating a multi-knowledgeable, multi-skilled, and multi-functional workforce.

The TACOM expanded developmental opportunity program will cover all demonstration project employees. The time that an employee is on an expanded developmental opportunity will not result in loss of (or reduction in) basic pay, leave to which the employee is otherwise entitled, or credit for time of service. The positions of employees on expanded developmental opportunities may be backfilled with detailed, temporarily promoted, or temporary/CEA employees. However, that position or its equivalent must be made available to the employee returning from the expanded developmental opportunity.

(a) Sabbaticals

TACOM will have authority to grant paid sabbaticals to career employees to permit them to engage in study or uncompensated work experiences that will benefit the organization and contribute to their development and effectiveness. Various learning or developmental work experiences may be considered, such as advanced academic teaching; study; research; self-directed or guided study; and on-the-job work experience with a public, private commercial, or private non-profit organization. Employees will be eligible for a sabbatical after completion of 7 years of Federal service.

A sabbatical may last 3-12 months, and each sabbatical must result in a product, service, report, or study that will benefit the TACOM mission as well as increase the employee's individual effectiveness. An employee accepting a paid sabbatical must sign a service obligation agreement to continue in service in TACOM for a period of three times the length of the sabbatical. If the employee voluntarily leaves TACOM employment before the service obligation is completed, the employee is liable for repayment of expenses associated with training during the sabbatical, such as registration fees, purchase or rental of books, materials, supplies, travel, per diem, and miscellaneous other related costs related to the sabbatical. (Expenses do not include the cost of the employee's salary.) The TACOM Commander or designee has the authority to waive the service obligation agreement.

The demonstration project operating procedures will contain specific procedures for processing sabbaticals.

(b) Critical Skills Training

Training is an essential component of an organization that requires continuous acquisition of advanced and specialized knowledge. Degree training in the academic environment of TACOM is also a critical tool for recruiting and retaining employees with or requiring critical skills. Until 2000, 5 U.S.C. 4107 limited degree payment to those employees in shortage occupations with a recruitment or retention problem. Degree payment was not permitted for non-shortage occupations involving critical skills. In section 1121 of the National Defense Authorization Act for FY 01, the Congress approved legislation sought by DoD to link degree payment to programs of systematic professional development, dropping the shortage occupation constraint. This demonstration project exempts TACOM from both conditions—linkage to professional development programs or to a shortage occupation.TACOM is expanding the authority of management to administer and pay for degree and certificate training programs (e.g., a graduate certificate in logistics) for employees in all occupational families in order to meet critical skill requirements, to ensure continuous acquisition of advanced specialized knowledge essential to the organization, and to retain personnel critical to future requirements of the organization. Degree or certificate payment may not be authorized where it would result in a tax liability for the employee without the employee's express and written consent. Any variance from this policy must be rigorously determined and documented. Employees approved for degree training must sign a service obligation agreement to continue in service in TACOM for a period of three times the length of the training period. If an employee voluntarily leaves TACOM before the service obligation is completed, the employee is liable for repayment of expenses associated with the training, such as tuition and matriculation fees; registration fees; library and laboratory fees; purchase or rental of books, materials, and supplies; travel and per diem; and miscellaneous other costs related to the training program. The TACOM Commander has the authority to waive the service obligation agreement.

Demonstration project operating procedures will include guidelines to ensure competitive approval of payment for degree and certificate training, as well as documentation of decisions to do so.

2. Appraisals for Employees on Expanded Developmental Opportunities

Expanded developmental opportunities generally fall into two categories: classroom and developmental (on-the-job training). Developmental assignments should be treated as any other temporary assignment that continues for 120 days or more. A performance plan is established, and the incumbent receives a performance rating upon completion. Assignments that involve classroom work are covered by one of two options. The first is to render a rating as soon as the employee returns to the position and completes 120 days under a performance plan. The second is to render a rating for the classroom performance. Procedures for this option will follow those currently in place for the Department of Army's Long-Term Training (LTT) Program.

3. Learning Development Share

Employees can earn a learning development share (LDS), which is a lump sum payment for successfully completing professional, personal, or future educational requirements of the organization. The LDS provides a cash incentive for continuing to develop one's intellectual opportunities, and it also supports TACOM's goal of developing a multi-knowledge, multi-skilled and multi-functional workforce.

Demonstration project operating procedures will prescribe eligibility criteria (e.g., completion of a specified number of continuing education units) and formulas for calculating the amount of an LDS. The LDS will be paid out of Command-designated funds set aside for employee training and development.

G. Reduction in Force (RIF)

When reduction in force (RIF) becomes necessary, the procedures in 5 CFR part 351 will be followed with the modifications specified below.

1. Competitive Areas

A separate competitive area will be established by geographic location for all personnel included in this demonstration project. Because of their mobility requirements, Logistics Assistance Representatives (LARS) will constitute a separate competitive area worldwide, without regard to their geographic locations.

2. Competitive Levels

Within each competitive area, competitive levels will be established consisting of all positions in the same broadband occupational family and pay band level which are similar enough in duties, qualifications, and working conditions that the incumbent of one position can perform successfully the duties of any other position in the competitive level without undue interruption.

3. Retention Standing

Retention standing is determined utilizing the retention factors of tenure, veterans' preference, and length of service, only, and in that order. There will be no augmented service credit based on performance ratings.

4. Rounds of Competition

The proposed system will retain two rounds of competition. An employee released from his/her competitive level will compete in a second round of competition. Bumping and retreating to another position will be limited to the same or next lower pay band level in any occupational family. However, a preference eligible employee with a compensable service disability of 30 percent or more may retreat to a position equivalent to five GS grades below the minimum grade level encompassed by the employee's current pay band level (i.e., up to two pay band levels below the employee's current pay band level except for engineers and scientists in the Business and Management Professional pay band level V, who may retreat up to three pay band levels below their current pay band level).

5. Unacceptable Performance

An employee with a current rating of record of unacceptable has no assignment rights and does not compete in RIF if released from his/her competitive level.

An employee who has received an acceptable rating following a PIP will have that rating considered as the current rating of record, provided that notification of the acceptable rating is approved and received prior to the cutoff for receipt of personnel actions associated with implementation of the RIF.

Employees who have received a written decision to demote them to a lower pay band compete in RIF from the position to which they have been or will be demoted.

An employee who has been given a written decision of removal will be placed on a list separate from the competitive level retention register and will not compete in RIF.

6. Pay Band Level and Pay Retention

Except where waived or modified in the waiver section of this plan, pay band level and pay retention will follow current law and regulations (e.g., pay band level will substitute for grade).

IV. Implementation Training

A. Policy

A key element in the success of the proposed demonstration project will be the training provided for all involved. This training will not only provide the necessary knowledge and skills to carry out the proposed changes, but also foster participants' commitment to the program.

Training before the beginning of implementation and throughout the demonstration will be provided to supervisors, employees, and others administering the demonstration project.

The elements to be covered in the orientation portion of this training will include: (1) A description of the personnel system; (2) how employees are converted into and out of the system; (3) familiarization with simplified classification, new position descriptions, and standardized rating criteria; (4) the appraisal and performance payout process; and (5) the demonstration project's administrative and formal evaluation process.

B. Supervisors

The focus of this project on management-centered personnel administration, with increased supervisory and managerial authority and accountability for personnel management, demands thorough training of supervisors and managers in the knowledge and skills required for their new responsibilities. Training will include detailed information on the policies and procedures of the demonstration project, as well as skills training in using the classification system, preparing position descriptions, and evaluating performance.

C. Others Administering the Demonstration Project

The administrative staff, general personnel specialists, technicians, and administrative officers will play a key role in advising, training, and coaching supervisors and employees in implementing the demonstration project. This staff will receive training in the procedural and technical aspects of the project.

D. Employees

In the months prior to implementation, the demonstration project team and career development offices will provide all employees covered under the demonstration project training through various media. This training is intended to fully inform all affected TACOM associates of all significant project decisions, procedures, and processes.

V. Conversion

A. Conversion to the Demonstration Project

For those employees covered by the demonstration project, initial conversion into the project will be accomplished through a full employee protection approach that ensures assignment to a position in the appropriate broadband occupational family and pay band level without a loss of pay. Each employee's initial total salary under the demonstration project will equal the total salary received immediately prior to the implementation date of the project, plus the pro-rated amount of a within-grade increase (WGI) to which he/she is entitled, as described in V.A.4.

General Schedule employees who enter the demonstration project after initial implementation enter at their current pay with no loss or gain due to the WGI equity adjustment. If conversion into the demonstration project is accompanied by a simultaneous geographic move, the employee's GS pay entitlements (including locality pay or special rate) in the new area must be determined before converting the pay to the demonstration project system.

Adverse action and pay retention provisions will not apply to the conversion process, as there will be no change in total salary. Prior to conversion, if the employee's rate of basic pay exceeds the maximum rate of basic pay for the pay band level corresponding to the employee's GS grade, as with retained pay or special salary rates, the employee will remain at that pay band level and will receive a retained rate.

1. Employees on Temporary Promotions

Employees who are on temporary promotions at the time of conversion will be converted to a pay band level commensurate with the grade of the position to which temporarily promoted. At the conclusion of the temporary promotion, the employee will revert to the pay band level that corresponds to the grade of the position held under the GS system prior to the temporary promotion. Pay entitlements will be determined based on the employee's position of record under the GS system immediately prior to conversion into the project, with appropriate adjustments to reflect pay events during the temporary promotion, subject to the specific policies and rules established by local pay-setting procedures. In no case may those adjustments increase the pay for the position of record beyond the applicable pay range's maximum rate. The only exception would be if the original competitive promotion announcement stipulated that the promotion could be made permanent. In these cases, actions to make the temporary promotion permanent will be considered and, if implemented, will be subject to all existing priority placement program procedures.

2. Employees on Term Appointments

Employees serving under regular term appointments at the time of the implementation of the demonstration project will be converted to contingent employee appointments (CEA). Conditions for CEA employees are addressed in III.D., Hiring and Appointment Authorities.

3. Employees Covered by Special Salary Rates

Employees who are covered by special salary rates, upon being covered by the demonstration project, will no longer be considered special rate employees under the demonstration project. These employees will, therefore, be entitled to full locality pay or a staffing supplement. The adjusted salaries of these employees will not change. Rather, the employees will receive a new basic pay rate computed under the staffing supplement rules in III.E.2.(c), Staffing Supplement, if applicable. Adverse action and pay retention provisions will not apply to the conversion process, as there will be no change in total salary.

4. Pro-Rated Credit for Completion of Within-Grade Increase (WGI) Waiting Period

Under the current pay structure, employees progress through their assigned grade in step increments. Since this system is being replaced under the demonstration project, employees will be awarded that portion of the next higher step, based upon the portion of the waiting period they have completed up until the effective date of implementation of the demonstration project. As under the current system, supervisors will be able to withhold these partial step increases if the employee's performance is below an acceptable level of performance. Rules governing within-grade increases under the current Army performance plan will continue in effect until the demonstration project implementation date. Adjustments to the employee's base salary for WGI equity will be computed effective the date of implementation of the demonstration project to coincide with the beginning of the first formal TACOM Appraisal and Performance Payout System (TAPPS) rating cycle. WGI equity will be acknowledged by increasing base salaries by a pro-rated amount based upon the actual number of weeks an employee has completed toward the next higher step. At the time of conversion, payment will equal the current value of the employee's next WGI times the proportion of the waiting period completed (weeks completed in the waiting period/weeks in the waiting period). Employees at step 10 or receiving retained rates on the date of implementation will not be eligible for WGI equity adjustments, since they are already at or above the top of the step scale.

B. Conversion Out of the Demonstration Project

If a demonstration project employee is moving to a General Schedule (GS) position not under the demonstration project, or if the project ends, each project employee must be converted back to the GS system. The procedures below will be used to convert the employee's pay band level position to a GS-equivalent grade and the employee's rate of pay to the GS equivalent rate of pay. The converted GS grade and GS rate of pay must be determined before movement or conversion out of the demonstration project and any accompanying geographic movement, promotion, or other simultaneous action. For lateral reassignments, the converted GS grade and rate will become the employee's actual GS grade and rate after leaving the demonstration project (before any other action). For transfers, promotions, and other actions, the converted GS grade and rate will be used in applying any GS pay administration rules applicable in connection with the employee's movement out of the project (e.g., promotion rules, highest previous rate rules, pay retention rules), as if the GS converted grade and rate were actually in effect immediately before the employee left the demonstration project. The rules for determining the converted GS grade for pay administration purposes do not apply to the determination of an employee's GS equivalent grade for other purposes, such as reduction-in-force or adverse action determinations.

1. Grade-Setting Provisions

An employee is converted to one of the grades in the current pay band level according to the “step 4 rule,” as follows:

(a) The employee's adjusted rate of basic pay under the demonstration project (including any locality payment or staffing supplement) is compared with the step 4 rate in the highest applicable GS rate range. (For this purpose, a GS rate range includes a rate in: (1) The GS base schedule; (2) the locality rate schedule for the locality pay area in which the position is located; or (3) the appropriate special rate schedule for the employee's occupational series, as applicable.) If the series is a two-grade interval series, only odd-numbered grades are considered below GS-11.

(b) If the employee's adjusted demonstration project rate equals or exceeds the applicable step 4 rate of the highest GS grade in the band, the employee is converted to that grade. Pay will be set at the step that equals the current salary. If no step equals current salary, pay is set at the next higher step.

(c) If the employee's adjusted demonstration project rate is lower than the applicable step 4 rate of the highest grade, the adjusted rate is compared with the step 4 rate of the second highest grade in the employee's pay band level. If the employee's adjusted rate equals or exceeds step 4 rate of the second highest grade, the employee is converted to that grade.

(d) This process is repeated for each successively lower grade in the band until a grade is found in which the employee's adjusted demonstration project rate equals or exceeds the applicable step 4 rate of the grade. The employee is then converted at that grade. If the employee's adjusted rate is below the step 4 rate of the lowest grade in the band, the employee is converted to the lowest grade.

(e) Exception: If the employee's adjusted demonstration project rate exceeds the maximum rate of the grade assigned under the “step 4 rule” but fits in the rate range for the next higher applicable grade (i.e., between step 1 and step 4), then the employee shall be converted to that next higher applicable grade.

(f) Exception: An employee will not be converted to a lower grade than the grade held by the employee immediately preceding a conversion, lateral reassignment, or lateral transfer into the demonstration project, unless since that time the employee has undergone a reduction in pay band level or reduction in pay based upon adverse action.

2. Pay-Setting Provisions

An employee's pay within the converted GS grade is set by converting the employee's demonstration project rate of pay to a GS rate of pay in accordance with the following rules:

(a) The pay conversion is done before any geographic movement or other pay-related action that coincides with the employee's movement or conversion out of the demonstration project.

(b) An employee's adjusted rate of basic pay under the project (including any locality pay or staffing supplement) is converted to a GS adjusted rate on the highest applicable rate range for the converted GS grade. (For this purpose, a GS rate range includes a rate range in: (1) The GS base schedule; (2) an applicable locality rate schedule; or (3) an applicable special rate schedule.

(c) If the highest applicable GS rate range is a locality pay rate range, the employee's adjusted demonstration project rate is converted to a GS locality rate of pay. If this rate falls between two steps in the locality-adjusted schedule, the rate must be set at the higher step. The converted GS unadjusted rate of basic pay would be the GS base rate corresponding to the converted GS locality rate (i.e., same step position). (If this employee is also covered by a special rate schedule as a GS employee, the converted special rate will be determined based on the GS step position. This underlying special rate will be basic pay for certain purposes for which the employee's higher locality rate is not basic pay.)

(d) If the highest applicable GS rate range is a special rate range, the employee's adjusted demonstration project rate is converted to a special rate. If this rate falls between two steps in the special rate schedule, the rate must be set at the higher step. The converted GS unadjusted rate of basic pay will be the GS rate corresponding to the converted special rate (i.e., same step position).

3. Employees With Band or Pay Retention

(a) If an employee is retaining a pay band level under the demonstration project, apply the procedures in the grade-setting and pay-setting provisions above, using the grades encompassed in the employee's retained pay band to determine the employee's GS-equivalent retained grade and pay rate. The time in a retained pay band under the demonstration project counts toward the 2-year limit on grade retention in 5 U.S.C. 5362.

(b) If an employee is retaining a rate under the demonstration project, the employee's GS-equivalent grade is the highest grade encompassed in his or her band level. Convert the employee's retained rate as follows:

(1) If the employee's adjusted retained rate is less than the maximum rate of the highest applicable rate range, then apply the procedures in V.B.2. to determine the employee's GS-equivalent pay rate.

(2) If the employee's adjusted retained rate exceeds the maximum rate of the highest applicable rate range and the employee is not in a special rate category, then convert the employee's unadjusted retained rate to a GS-equivalent retained rate.

(3) If the employee's adjusted retained rate exceeds the maximum rate of the highest applicable rate range and the employee is in a special rate category, then convert the employee's adjusted retained rate to a GS-equivalent retained rate.

4. Within-Grade Increase—Equivalent Increase Determinations

Service under the demonstration project is creditable for within-grade increase purposes upon conversion back to the GS pay system. TAPPS performance pay increases (including a zero increase) under the demonstration project are considered equivalent increases for the purpose of determining the commencement of a within-grade increase waiting period under 5 CFR 531.405(b).

5. Engineer and Scientist (E&S) Pay Band Level V Employees

An employee in pay band level V of the Engineer and Scientist broadband occupational family will convert out of the demonstration project at the GS-15 level. TACOM will develop a procedure to ensure that employees entering pay band level V understand that if they leave the demonstration project and their adjusted pay exceeds the GS-15, step 10 rate, there is no entitlement to retained pay. Their GS-equivalent rate will be deemed to be the rate for GS-15, step 10. For those pay band level V employees paid below the adjusted GS-15, step 10 rate, the converted rates will be set in accordance with V.B.2.

6. Years of Retention Service Credit and Appraisal Rating Provisions

Employees leaving the demonstration project will be assigned ratings of record that conform with summary pattern H of 5 CFR 430.208(d) with level 3 being the highest for those who pass (20 years of retention credit) and Level 1 being the lowest for those who fail (0 years of retention credit). The levels are assigned consistent with the definitions of acceptable and unacceptable performance in III.C.2.

VI. Project Duration

Public Law 103-337 removed any mandatory expiration date for this demonstration project. TACOM, DA and DoD will ensure this project is evaluated for the first five years after implementation in accordance with 5 U.S.C. 4703. Modifications to the original evaluation plan or any new evaluation will ensure the project is evaluated for its effectiveness, its impact on mission, and any potential adverse impact on any employee groups. Major changes and modifications to the interventions can be made through announcement in the Federal Register and would be made if formative evaluation data warranted. At the 5-year point, the demonstration will be reexamined for permanent implementation, modification and additional testing, or termination of the entire demonstration project.

VII. Evaluation Plan

A. Overview

Chapter 47 of 5 U.S.C. requires that an evaluation be performed to measure the effectiveness of the proposed demonstration project and its impact on improving public management. A comprehensive evaluation plan for the entire laboratory demonstration program, originally covering 24 DoD laboratories, was developed by a joint OPM/DoD Evaluation Committee in 1995. This plan was submitted to the Office of Defense Research & Engineering and was subsequently approved. The main purpose of the evaluation is to determine whether the waivers granted result in a more effective personnel system and improvements in ultimate outcomes (i.e., organizational effectiveness, mission accomplishment, and customer satisfaction).

B. Evaluation Model

Appendix E shows an intervention model for the evaluation of the demonstration project. The model is designed to evaluate two levels of organizational performance: intermediate and ultimate outcomes. The intermediate outcomes are defined as the results from specific personnel system changes and the associated waivers of law and regulation expected to improve human resources (HR) management (i.e., cost, quality, timeliness). The ultimate outcomes are determined through improved organizational performance, mission accomplishment, and customer satisfaction. Although it is not possible to establish a direct causal link between changes in the HR management system and organizational effectiveness, it is hypothesized that the new HR system will contribute to improved organizational effectiveness.

Organizational performance measures established by the organization, will be used to evaluate the impact of a new HR system on the ultimate outcomes. The evaluation of the new HR system for any given organization will take into account the influence of three factors on organizational performance: context, degree of implementation, and support of implementation. The context factor refers to the impact which intervening variables (i.e., downsizing, changes in mission, or the economy) can have on the effectiveness of the program. The degree of implementation considers: (1) The extent to which the proposed HR changes are given a fair trial period; (2) the extent to which the proposed changes are implemented; and (3) the extent to which the proposed changes conform to the HR interventions as planned. The support of implementation factor accounts for the impact that factors such as training, internal regulations and automated support systems have on the support available for program implementation. The support for program implementation factor can also be affected by the personal characteristics (e.g. attitudes) of individuals who are implementing the program.

The degree to which the project is implemented and operated will be tracked to ensure that the evaluation results reflect the project as it was intended. Data will be collected to measure changes in both intermediate and ultimate outcomes, as well as any unintended outcomes, which may happen as a result of any organizational change. In addition, the evaluation will track the impact of the project and its interventions on veterans and other EEO groups, the Merit Systems Principles, and the Prohibited Personnel Practices. Additional measures may be added to the model in the event that changes or modifications are made to the demonstration plan.

The intervention model at Appendix E will be used to measure the effectiveness of the personnel system interventions implemented. The intervention model specifies each personnel system change or “intervention” that will be measured and shows: (1) The expected effects of the intervention, (2) the corresponding measures, and (3) the data sources for obtaining the measures. Although the model makes predictions about the outcomes of specific intervention, causal attributions about the full impact of specific interventions will not always be possible for several reasons. For example, many of the initiatives are expected to interact with each other and contribute to the same outcomes. In addition, the impact of changes in the HR system may be mitigated by context variables (e.g. the job market, legislation, and internal support systems) or support factors (e.g. training, automation support systems).

C. Evaluation

A modified quasi-experimental design will be used for the evaluation of the S&T Personnel Demonstration Program. Because most of the eligible laboratories are participating in the program, a Title 5 U.S.C. comparison group will be compiled from the Civilian Personnel Data File (CPDF). This comparison group will consist of workforce data from Government-wide research organizations in civilian Federal agencies with missions and job series matching those in the DoD laboratories. This comparison group will be used primarily in the analysis of pay banding costs and turnover rates. The original “China Lake” project will serve as a second comparison group that can be used as a benchmark representing a stable pay banding system.

D. Method of Data Collection

Data from several sources will be used in the evaluation. Information from existing management information systems and from personnel office records will be supplemented with perceptual survey data from employees to assess the effectiveness and perception of the project. The multiple sources of data collection will provide a more complete picture as to how the interventions are working. The information gathered from one source will serve to validate information obtained through another source. In so doing, the confidence of overall findings will be strengthened as the different collection methods substantiate each other.

Both quantitative and qualitative data will be used when evaluating outcomes. The following data will be collected: (1) Workforce data; (2) personnel office data; (3) employee attitude surveys; (4) focus group data; (5) local site historian logs and implementation information; (6) customer satisfaction surveys; and (7) core measures of organizational performance.

The evaluation effort will consist of two phases, formative and summative evaluation, covering at least 5 years to permit inter- and intra-organizational estimates of effectiveness. The formative evaluation phase will include baseline data collection and analysis, implementation evaluation, and interim assessments. The formal reports and interim assessments will provide information on the accuracy of project operation, and current information on impact of the project on veterans and EEO groups, Merit System Principles, and Prohibited Personnel Practices. The summative evaluation will focus on an overall assessment of project outcomes after five years. The final report will provide information on how well the HR system changes achieved the desired goals, which interventions were most effective, and whether the results can be generalized to other Federal installations.

VIII. Demonstration Project Costs

A. Cost Discipline

An objective of the demonstration project is to ensure in-house budget discipline. A baseline will be established at the start of the project, and salary expenditures will be tracked yearly. Implementation costs, including project development, automation costs, WGI equity adjustments, credit for career ladder promotions, and evaluation costs are considered one-time costs and will not be included in the cost discipline evaluations. To ensure corporate consistency, the Personnel Management Board will track personnel cost changes and recommend adjustments if required to achieve the objective of cost discipline.

B. Developmental Costs

Costs associated with the development of the personnel demonstration project include software automation, training, and project evaluation. All funding will be provided through the TACOM budget. The projected annual expenses are summarized in Figure 5. Project evaluation costs are not expected to continue beyond 5 years, unless the results warrant further evaluation.

Figure 5.—Projected Developmental Costs
| FY 02 | FY 03 | FY 04 | FY 05 | FY 06
Training | 30K | 100K | 15K |  |
Project Evaluation | 75K | 75K | 75K | 75K | 75K
Automation | 375K | 100K | 35K | 35K | 35K
Totals | 480K | 275K | 125K | 110K | 110K

IX. Required Waivers and Adaptations of Law and Regulation

Public Law 106-398 gave DoD the authority to experiment with several personnel management innovations. In addition to the authorities granted by the law, the following are waivers and adaptations of law and regulation that will be necessary for implementation of the demonstration project. In due course, additional laws and regulations may be identified for waiver request.

The following waivers and adaptations of certain provisions are required only to the extent that these statutory provisions limit or are inconsistent with the actions contemplated under this demonstration project. Nothing in this plan is intended to preclude the demonstration project from adopting or incorporating any law or regulation enacted, adopted, or amended after the effective date of this demonstration project.

A. Waivers and Adaptations of Title 5, United States Code (U.S.C.)

Chapter 5, Section 552a: Records Maintained on Individuals. This section is adapted only to the extent necessary to allow demonstration project volunteers under the voluntary emeritus program to be treated as “Federal personnel”, as that term is defined in this section.

Chapter 31, Section 3111: Acceptance of Volunteer Service. This section is adapted only to the extent necessary to allow acceptance of volunteer service under provisions of the demonstration project's voluntary emeritus program.

Chapter 31, Section 3132: The Senior Executive Service; Definitions and Exclusions. This section is adapted only to the extent necessary to allow creation of pay band V of the Professional and Business Management broadband occupational family.

Chapter 33, Section 3308: Competitive Service; Examinations; Educational Requirements Prohibited; Exceptions. This section is adapted only to the extent necessary to allow the requirement for a college degree under the distinguished scholastic achievement appointment authority of this demonstration project.

Chapter 33, Section 3317(a): Competitive Service; Certification from Registers. This section is waived to eliminate the “rule of three” under the demonstration project.

Chapter 33, Section 3318(a): Competitive Service; Selection from Certificates. This section is waived to eliminate the “rule of three” under the demonstration project. Chapter 33, Section 3324: Appointment to positions classified above GS-15. This section is waived to allow creation of pay band V of the Professional and Business Management broadband occupational family.

Chapter 33, Section 3341: Details; Within Executive or Military Departments. This section is adapted only to the extent necessary to allow details to extend beyond 120 days.

Chapter 35, Section 3502(a)(4): Order of Retention. This section is waived to eliminate augmented service credit for performance ratings.

Chapter 41, Section 4107: Restriction on Degree Training. This section is adapted only to the extent necessary to allow payment for any degree training, even when not linked to a professional development program or to a shortage occupation.

Chapter 43, Sections 4301(3): Definitions. This section is waived to allow a different definition of the term, “unacceptable performance” under this demonstration.

Chapter 43, Section 4302: Establishment of Performance Appraisal Systems. This section is adapted only to the extent necessary to allow broadbanding and to accommodate performance-focused pay features of the TACOM Appraisal and Performance Payout System.

Chapter 43, Sections 4303(a), (b), and (c): Actions Based on Unacceptable Performance. These sections are adapted only to the extent necessary to replace the term “grade” with “pay band level” and accommodate this demonstration project's procedures for taking actions based on unacceptable performance.

Chapter 43, Sections 4304 (b) (1) and (3): Responsibilities of the Office of Personnel Management. These sections are waived to reflect changes in responsibilities authorized by section 1114 of the National Defense Authorization Act of 2001.

Chapter 45, Sections 4502(a) and (b): General Provisions. These sections are adapted only to the extent necessary to allow awards up to $25,000 for individual employees to be approved under the demonstration project plan's procedures.

Chapter 51, Sections 5101-5113: Classification. These sections are waived to permit classification of demonstration project positions to pay band levels on the basis of broadband range factors and allow deviation from OPM-prescribed position description formats.

Chapter 53, Sections 5301; 5302 (1), (8), and (9); 5303; and 5304: Pay Comparability System. These sections are adapted only to the extent necessary to (1) allow employees in pay band V of the Professional and Business Management broadband occupational family to be treated as ST employees, (2) allow all other demonstration project employees to be treated as General Schedule employees, and (3) allow basic rates of pay under the demonstration project to be treated as scheduled rates of basic pay. However, these adaptations do not apply to ST employees, who will continue to be covered by these Title 5 statutory provisions, as appropriate.

Chapter 53, Section 5305: Special Pay Authority. This section is waived only to the extent necessary to ensure that special salary rates are inapplicable to demonstration project employees after their conversion into the demonstration project and to allow future special salary rates only when specifically incorporated through the use of the staffing supplement provisions of the demonstration project plan.

Chapter 53, Sections 5331-5336: General Schedule Pay Rates. These sections are waived to allow broadbanding and accommodate performance-focused pay features of the TACOM Appraisal and Performance Payout System (TAPPS).

Chapter 53, Sections 5361-5366: Grade and Pay Retention. These sections are adapted only to the extent necessary to: (1) Replace “grade” with “pay band level”; (2) allow demonstration project employees to be treated as General Schedule employees; (3) provide that pay retention provisions do not apply to conversions from General Schedule special rates to demonstration project pay, as long as total pay is not reduced, and to reductions in pay due solely to the removal of a supervisory pay adjustment upon voluntarily leaving a supervisory position; (4) provide that pay retention does not apply to reduction in basic pay due solely to the reallocation of demonstration project pay rates in the implementation of a staffing supplement; and (5) ensure that for employees of pay band level V of the Professional and Business Management broadband occupational family, pay band level retention is not applicable and pay retention provisions are modified so that no rate established under these provisions may exceed the rate of basic pay for GS-15, step 10 (i.e., there is no entitlement to retained rate). These adaptations do not apply with respect to coverage for ST employees, except when an ST employee moves to a GS-equivalent position within the demonstration project under conditions that trigger entitlement to pay retention.

Chapter 55, Sections 5542(a)(1)-(2): Overtime Rates; Computation. These sections are adapted only to the extent necessary to provide that the GS-10 minimum special rate (if any) for the special rate category to which a project employee belongs is deemed to be the “applicable special rate” in applying the pay cap provisions in 5 U.S.C. 5542.

Chapter 55, Section 5545(d): Hazardous Duty Differential. This section is adapted only to the extent necessary to allow demonstration project employees to be treated as General Schedule employees. However, this adaptation does not apply to ST employees or employees in pay band V of the Professional and Business Management broadband occupational family, and they are excluded from coverage under 5 U.S.C. 5545(d).

Chapter 55, Section 5547(a)-(b): Limitation on Premium Pay. These sections are adapted only to the extent necessary to provide that the GS-15 maximum special rate (if any) for the special rate category to which a project employee belongs is deemed to be the “applicable special rate” in applying the pay cap provisions in 5 U.S.C. 5547.

Chapter 57, Sections 5753, 5754, and 5755: Recruitment and Relocation Bonuses; Retention Allowances; and Supervisory Differentials. These sections are adapted only to the extent necessary to (1) allow employees in pay band V of the Professional and Business Management broadband occupational family to be treated as ST employees, (2) allow all other demonstration project employees to be treated as General Schedule employees, and (3) allow basic rates of pay under the demonstration project to be treated as scheduled rates of basic pay. However, these adaptations do not apply to ST employees, who will continue to be covered by these Title 5 statutory provisions, as appropriate.

Chapter 59, Section 5941: Allowances Based on Living Costs and Conditions of Environment; Employees Stationed Outside Continental United States or in Alaska. This section is adapted only to the extent necessary to provide that COLAs paid to employees under the demonstration project are paid in accordance with regulations prescribed by the President (as delegated to OPM).

Chapter 71: Labor-Management Relations. This chapter is waived only to the extent that its provisions (e.g., 5 U.S.C. 7103(a)(12) and 7116) would prohibit management or the union from unilaterally terminating negotiations over whether employees represented by the union will be converted into the demonstration project.

Chapter 75, Section 7512(3): Adverse Actions. This section is adapted only to the extent necessary to replace “grade” with “pay band level” and to provide that reductions in pay band level not accompanied by a reduction in pay are not covered by chapter 75, subchapter II.

Chapter 75, Section 7512(4): Adverse Actions. This section is adapted only to the extent necessary to ensure that adverse action provisions do not apply to conversions from General Schedule special rates to demonstration project pay, as long as total pay is not reduced.

B. Waivers and Adaptations of Title 5, Code of Federal Regulations (CFR)

Sections 300.601-300.605: Time-in-Grade Restrictions. These sections are waived to eliminate time-in-grade restrictions under this demonstration project.

Sections 308.101 through 308.103: Volunteer Service. These sections are adapted only to the extent necessary to allow retired and separated individuals to perform volunteer service under the provisions of the voluntary emeritus program.

Sections 315.801 and 315.802: Probationary Period. These sections are adapted only to the extent necessary to allow extended probationary periods for certain employees, as specified in the project plan for this demonstration project.

Section 315.901: Statutory Requirement. This section is adapted only to the extent necessary to replace “grade” with “pay band level.”

Section 315.904: Probationary Period. This section is adapted only to the extent necessary to allow imposition of an additional 1-year supervisory probationary period when an employee is officially assigned to a different supervisory position that constitutes a major change in supervisory responsibilities.

Section 316.301: Term Employment; Purpose and Duration. This section is adapted only to the extent necessary to allow contingent employee appointments to cover a maximum period of 6 years.

Section 316.303: Tenure of Term Employees. This section is adapted only to the extent necessary to allow employees on demonstration project contingent employee appointments to compete for permanent status through local merit promotion plans.

Section 332.402: Regular Order of Certification for Appointment. This section is waived.

Section 332.404: Order of Selection from Certificates. This section is adapted only to the extent necessary to eliminate the “rule of three” under this demonstration project.

Section 335.103 (c) (i): Agency Promotion Programs. This section is adapted only to the extent necessary to allow temporary promotions of 180 days or less to a position in a higher pay band level.

Section 335.103 (c) (ii): Agency Promotion Programs. This section is adapted only to the extent necessary to allow details of 180 days or less to a position in a higher pay band level.

Section 351.402(b): Competitive Area. This section is waived only to the extent necessary to allow Logistics Assistance Representatives to be placed into a separate competitive area worldwide, without regard to their geographic locations.

Section 351.403: Competitive Level. This section is adapted only to the extent necessary to replace the term “grade” with “pay band level.”

Section 351.504: Credit for Performance. This section is waived only to the extent necessary to eliminate augmented service credit for performance ratings.

Section 351.701: Assignment Involving Displacement. This section is adapted only to the extent necessary to limit the displacement of demonstration project employees to only one broadband level below the employee's present level in any occupational family, except that a preference-eligible employee with a compensable service-connected disability of 30 percent or more may retreat to a position which is equivalent to no more than five General Schedule grades below the minimum grade level encompassed by the employee's current pay band level.

Section 410.308: Training to Obtain an Academic Degree. This section is adapted only to the extent necessary to allow payment for any degree training, even when not linked to a professional development program or to a shortage occupation.

Part 430, Subpart B: Performance Appraisal for General Schedule, Prevailing Rate, and Certain Other Employees. This subpart is waived to accommodate the establishment of the TACOM Appraisal and Performance Payout System (TAPPS).

Part 432: Performance Based Reduction in Grade and Removal. This part is adapted only to the extent necessary to (1) allow employees to be removed, reduced in pay band level with a reduction in pay, reduced in pay without a reduction in pay band level, and reduced in pay band level without a reduction in pay based on unacceptable performance, (2) eliminate performance standards and critical elements, (3) incorporate what constitutes “acceptable performance” and “unacceptable performance,” as defined in the demonstration project plan, (4) replace the term “grade” with “pay band level,” and (5) provide that, for employees who are reduced in pay band level without a reduction in pay, Sections 432.105 and 432.106(a) do not apply.

Sections 432.104 and 432.105: Addressing Unacceptable Performance; Proposing and Taking Action Based on Unacceptable Performance. These sections are waived to allow the establishment of alternative procedures under the TACOM Appraisal and Performance Payout System (TAPPS).

Sections 451.106 and 451.107: Agency and OPM Responsibilities. These sections are adapted only to the extent necessary to allow awards up to $25,000 for individual employees to be approved under the project plan procedures.

Part 511: Classification Under the General Schedule. This part is adapted only to the extent necessary to (1) replace “grade” with “pay band level,” (2) permit classification of demonstration project positions to pay band levels on the basis of broadband range factors, and (3) allow deviation from OPM-prescribed position description formats.

Part 530, Subpart C: Special salary rates. This subpart is waived to the extent necessary to ensure that special salary rates are inapplicable to demonstration project employees after their conversion into the demonstration project.

Part 531, Subparts B, D, and E: Determining Rates of Basic Pay; Within-Grade Increases; and Quality Step Increases. These subparts are waived to allow broadbanding and accommodate performance-focused pay features of the TACOM Appraisal and Performance Payout System (TAPPS).

Part 531, Subpart C: Special Pay Adjustments for Law Enforcement Officers. This subpart is adapted only to the extent necessary to allow law enforcement officers covered by broadbanding to be treated as General Schedule employees, and to allow basic rates of pay under the demonstration project to be treated as scheduled annual rates of pay.

Part 531, Subpart F: Locality-Based Comparability Payments. This subpart is adapted only to the extent necessary to (1) allow employees in pay band V of the Professional and Business Management broadband occupational family to be treated as ST employees, (2) allow all other demonstration project employees to be treated as General Schedule employees, and (3) allow basic rates of pay under the demonstration project to be treated as scheduled rates of basic pay. However, these adaptations do not apply to ST employees, who will continue to be covered by these Title 5 regulatory provisions, as appropriate.

Section 531.302: Determining Special Law Enforcement Adjusted Rates of Pay. This section is adapted only to the extent necessary to (1) allow employees in pay band V of the Professional and Business Management broadband occupational family to be treated as ST employees, (2) allow all other demonstration project employees to be treated as General Schedule employees, and (3) allow basic rates of pay under the demonstration project to be treated as scheduled rates of basic pay. However, these adaptations do not apply to ST employees, who will continue to be covered by these Title 5 regulatory provisions, as appropriate.

Part 536: Grade and Pay Retention. This part is adapted only to the extent necessary to: (1) Replace “grade” with “pay band level'; (2) provide that pay retention provisions do not apply to conversions from General Schedule special rates to demonstration project pay, as long as total pay is not reduced; (3) provide that pay retention does not apply to reduction in basic pay due solely to the reallocation of demonstration project pay rates in the implementation of a staffing supplement; and (4) ensure that for employees of pay band V of the Professional and Business Management broadband occupational family, pay band level retention is not applicable and pay retention provisions are modified so that no rate established under these provisions may exceed the rate of basic pay for GS-15, step 10 (i.e., there is no entitlement to retained rate). These adaptations do not apply with respect to coverage for ST employees, except when an ST employee moves to a GS-equivalent position within the demonstration project under conditions that trigger entitlement to pay retention.

Part 550, Sections 550.105-550.106: Biweekly and Annual Maximum Earnings Limitations. These sections are adapted only to the extent necessary to provide that the GS-15 maximum special rate (if any) for the special rate category to which a project employee belongs is deemed to be the “applicable special rate” in applying the pay cap provisions in 5 U.S.C. 5547.

Part 550, Section 550.113(a): Computation of Overtime Pay. This section is adapted only to the extent necessary to provide that the GS-10 minimum special rate (if any) for the special rate category to which a project employee belongs is deemed to be the “applicable special rate” in applying the pay cap provisions in 5 U.S.C. 5542.

Section 550.703: Definitions. This section is adapted only to the extent necessary to modify the definition of “reasonable offer” by replacing “two grade or pay levels” with “one pay band level” and “grade or pay level” with “pay band level.”

Section 550.902: Hazardous Duty Differential. This section is adapted only to the extent necessary to allow demonstration project employees to be treated as General Schedule employees. However, this adaptation does not apply to ST employees or employees in pay band V of the Professional and Business Management broadband occupational family, and they are excluded from coverage under section 550.902.

Part 575, Subparts A, B, C, and D: Recruitment Bonuses; Relocation Bonuses; Retention Allowances; and Supervisory Differentials. These subparts are adapted only to the extent necessary to (1) allow employees in pay band V of the Professional and Business Management broadband occupational family to be treated as ST employees, (2) allow all other demonstration project employees to be treated as General Schedule employees, and (3) allow basic rates of pay under the demonstration project to be treated as scheduled rates of basic pay. However, these adaptations do not apply to ST employees, who will continue to be covered by these Title 5 regulatory provisions, as appropriate.

Part 591, Subpart B: Cost-of-Living Allowances and Post Differential—Nonforeign Areas. This subpart is adapted only to the extent necessary to allow demonstration project employees to be treated as employees under the General Schedule, and employees in pay band V of the Professional and Business Management broadband occupational family to be treated as ST employees.

Section 752.401 (a)(3): Adverse Actions. This section is adapted only to the extent necessary to replace “grade” with “pay band level.”

Section 752.401(a)(4): Adverse Actions. This section is adapted only to the extent necessary to provide that adverse action provisions do not apply to conversions from General Schedule special rates to demonstration project pay, as long as total pay is not reduced.

C. Adaptation of Title IV of the Federal Employees Pay Comparability Act of 1990 (Public Law 101-509): Federal Law Enforcement Pay Reform

This title is adapted only to the extent necessary to allow law enforcement officers covered by broadbanding under the demonstration project to be treated as law enforcement officers under the General Schedule.

Appendix A—Occupational Series by Occupational Family

I. Professional and Business Management Family

0018 Safety and Occupational Health Management

0028 Environmental Protection Specialist

0030 Sports Specialist

0080 Security Administration

0101 Social Science

0132 Intelligence

0170 History

0180 Psychology

0185 Social Work

0187 Social Services

0188 Recreation Specialist

0201 Human Resources Management

0205 Military Personnel Management

Note: In December 2000, OPM issued the GS-0201, Human Resources Management standard and, in so doing, canceled the GS-0205, Military Personnel Management series. TACOM is in the process of applying the new standard as of the date of this Federal Register notice.

0230 Employee Relations

Note: In December 2000, OPM issued the GS-0201, Human Resources Management standard and, in so doing, canceled the GS-0230, Employee Relations series. TACOM is in the process of applying the new standard as of the date of this Federal Register notice.

0260 Equal Employment Opportunity

0301 Miscellaneous Administration and Program

0334 Computer Specialist

Note: In May 2001, OPM issued the GS-2210, Information Technology Management standard and, in so doing, canceled the GS-0334, Computer Specialist series. TACOM is in the process of applying the new standard as of the date of this Federal Register notice.

0340 Program Management

0341 Administrative Officer

0343 Management and Program Analysis

0346 Logistics Management

0391 Telecommunications

0399 Student Trainee

0401 General Biological Sciences

0501 Financial Administration and Program

0505 Financial Management

0510 Accounting

0511 Auditing

0560 Budget Analysis

0601 Corporate Fitness Program Management

0690 Industrial Hygiene

0801 General Engineering

0803 Safety Engineering

0806 Materials Engineering

0810 Civil Engineering

0819 Environmental Engineering

0830 Mechanical Engineering

0850 Electrical Engineering

0854 Computer Engineering

0855 Electronics Engineering

0861 Aerospace Engineering

0892 Ceramic Engineering

0896 Industrial Engineering

0893 Chemical Engineering

0899 Student Trainee

0905 General Attorney

0950 Paralegal

1001 General Arts and Information

1010 Exhibits Specialist

1020 Illustrating

1035 Public Affairs

1060 Photography

1071 Audiovisual Production

1082 Writing and Editing

1083 Technical Writing and Editing

1084 Visual Information

1101 General Business and Industry

1102 Contracting

1103 Industrial Property Management

1150 Industrial Specialist

1170 Realty

1173 Housing Management

1199 Student Trainee

1222 Patent Attorney

1301 General Physical Sciences

1306 Health Physics

1310 Physics

1315 Hydrology

1320 Chemistry

1321 Metallurgy

1399 Student Trainee

1410 Librarian

1412 Technical Information Services

1515 Operations Research

1520 Mathematics

1529 Mathematical Statistician

1550 Computer Science

1599 Student Trainee

1601 General Facilities and Equipment

1670 Equipment Specialist

1701 General Education and Training

1710 Education and Vocational Training

1712 Training Instruction

1740 Education Services

1801 General Inspection, Investigation, and Compliance

1811 Criminal Investigating

1910 Quality Assurance

2001 General Supply

2003 Supply Program Management

2010 Inventory Management

2030 Distribution Facilities and Storage Management

2032 Packaging

2130 Traffic Management

2210 Information Technology Management

II. Technical Support Family

0019 Safety Technician

0301 Miscellaneous Administration and Program

0802 Engineering Technician

0809 Construction Control

0818 Engineering Drafting

0856 Electronics Technician

0873 Ship Surveyor

0895 Industrial Engineering Technician

1152 Production Control

1311 Physical Science Technician

1521 Mathematics Technician

III. General Support Family

0081 Fire Protection and Prevention

0083 Police

0085 Security Guard

0086 Security Clerical and Assistance

0134 Intelligence Aid/Clerical

0186 Social Services Aid and Assistant

0189 Recreation Aid and Assistant

0203 Human Resources Assistance

0204 Military Personnel Clerical and Technician

Note: In December 2000, OPM issued the GS-0203, Human Resources Assistance standard and, in so doing, canceled the GS- 0204, Military Personnel Clerical and Technician series. TACOM is in the process of applying the new standard as of the date of this Federal Register notice.

0301 Miscellaneous Administration and Program

0303 Miscellaneous Clerk and Assistant

0304 Information Receptionist

0305 Mail and File

0318 Secretary

0322 Clerk-Typist

0326 Office Automation Clerical and Assistance

0332 Computer Operation

0335 Computer Clerk and Assistant

0344 Management and Program Clerical and Assistance

0350 Equipment Operator

0361 Equal Opportunity Assistance

0382 Telephone Operating

0390 Telecommunications Processing

0392 General Telecommunications

0394 Communications Clerical

0503 Financial Clerical and Assistance

0525 Accounting Technician

0540 Voucher Examining

0544 Civilian Pay Clerk

0561 Budget Clerical and Assistance

0986 Legal Assistance

1001 General Arts and Information

1087 Editorial Assistance

1101 General Business and Industry

1105 Purchasing

1106 Procurement Clerical and Technician

1411 Library Technician

1601 General Facilities and Equipment

1702 Education and Training Technician

2005 Supply Clerical and Technician

2102 Transportation Clerk and Assistant

2131 Freight Rate

2151 Dispatching

Appendix B—Position Description Form (Sample)

TACOM Personnel Demonstration Project Position Requirements Document

I. Organizational Information:

U.S. Army Tank-automotive and Armaments Command

(Name of Business Center)

(Name of Division/Branch) (Site Location)

II. Position Information:

(Title), (Pay Plan Designation), (Series), (Pay Band Level)

PRD Number:

FLSA:

Competitive Level:

Position Sensitivity:

III. Major Range of Duties: (Description of the major duties and responsibilities of the work performed)

IV. Broadband Range Factors:

Factor 1. Problem Solving

(Description)

Level Designation:

Factor 2. Teamwork/Cooperation

(Description)

Level Designation:

Factor 3. Customer Relations

(Description)

Level Designation:

Factor 4. Leadership

(Description)

Level Designation:

Factor 5. Communication

(Description)

Level Designation:

Factor 6. Resource Management

(Description)

Level Designation:

V. Additional Requirements: (If necessary, such items as special travel or physical requirements; additional knowledges, skills, and abilities needed to perform the range of work; or any other item(s) not previously covered).

VI. Electronic Certification

Appendix C—Broadband Performance Benchmarks by Occupational Family

Table 1.—Performance Benchmarks for Broadband: Professional and Business Management
| RATING CRITERIA FACTOR 1—PROBLEM SOLVING This factor measures personal and organizational problem solving results.: Sub-Factors | RATING CRITERIA FACTOR 1—PROBLEM SOLVING This factor measures personal and organizational problem solving results.: PERFORMANCE LEVEL DEFINITIONS—Level definitions in this table provide illustrations which describe the “high” score range for each pay band level: Level I Score Range Low 0-5 Med 6-27 High 28-32 | RATING CRITERIA FACTOR 1—PROBLEM SOLVING This factor measures personal and organizational problem solving results.: PERFORMANCE LEVEL DEFINITIONS—Level definitions in this table provide illustrations which describe the “high” score range for each pay band level: Level II Score Range Low 24-32 ML 33-43 Med 44-55 Mh 56-67 High 68-72 | RATING CRITERIA FACTOR 1—PROBLEM SOLVING This factor measures personal and organizational problem solving results.: PERFORMANCE LEVEL DEFINITIONS—Level definitions in this table provide illustrations which describe the “high” score range for each pay band level: Level III Score Range Low 67-72 Med 73-87 High 88-92 | RATING CRITERIA FACTOR 1—PROBLEM SOLVING This factor measures personal and organizational problem solving results.: PERFORMANCE LEVEL DEFINITIONS—Level definitions in this table provide illustrations which describe the “high” score range for each pay band level: Level IV Score Range Low 86-92 Med 93-105 High 106-110 Very High 115
BASIC PERFORMANCE STANDARDS (Applicable accomplishments at all levels):
Work is timely, efficient, of acceptable quality and is performed on a regular basis. Completed work meets project/program/function objectives. Flexibility, adaptability, and decisiveness are exercised appropriately | Scope/Impact | Conducts activities on a segment of a task. Assists supervisor or other appropriate personnel | Plans and conducts administrative activities for projects | Plans and conducts complex administrative activities | Independently plans & conducts a complex multi-faceted program, or the operations of a complex multi-faceted organization.
| Complexity/Difficulty | Applies standard rules, procedures, or operations to resolve routine problems | Develops, modifies and/or applies rules, procedures or operations to resolve problems of moderate complexity/difficulty | Develops rules, procedures, or operations for complex/difficult organizational tasks | Develops, integrates & implements organization/program, policies and procedures.
| Independence | Independently carries out routine tasks | Independently plans and executes assignments; resolves problems and handles deviations | Identifies issues and determines approaches and methods to accomplish tasks. Initiates effective actions and resolves related conflicts | Independently solves organization/program problems.
| Creativity | Tasks initiative in selecting and implementing appropriate procedures | Identifies and adapts guidelines for new or unusual situations | Identifies issues requiring new procedures and develops appropriate guidelines | Develops program/organization operating procedures and guidelines to fit new circumstances/situations and to improve overall program and policies.

| RATING CRITERIA FACTOR 1—PROBLEM SOLVING This factor measures personal and organizational problem solving results.: Sub-Factors | RATING CRITERIA FACTOR 1—PROBLEM SOLVING This factor measures personal and organizational problem solving results.: PERFORMANCE LEVEL DEFINITIONS—Level definitions in this table provide illustrations which describe the “high” score range for each pay band level Level V (Applicable to Employees in Pay Band Level V) Score Range Low 105-110 Med 111-115 High 116-120
BASIC PERFORMANCE STANDARDS (Applicable accomplishments at all levels):
Work is timely, efficient, of acceptable quality and is performed on a regular basis. Completed work meets project/program/function objectives. Flexibility, adaptability, and decisiveness are exercised appropriately | Scope/Impact | Leads major national, agency, multi-service or international project/programs. Identifies and resolves problems that cross Services/agencies.
| Complexity/Difficulty | Provides strategic direction on issues that involve defense policies, programs, and/or initiatives.
| Independence | Makes independent decisions at the command, senior Service, and/or DoD levels.
| Creativity | Formulates strategic vision and conceives innovative approaches for implementation. Foster an environment where creative ideas flourish.

Table 1—Performance Benchmarks for Broadband: Professional and Business Management (Continued)
| RATING CRITERIA FACTOR 2—TEAMWORK/COOPERATION This factor, applicable to both formal and informal teams, measures individual and organizational teamwork and cooperation.: Sub-Factors | RATING CRITERIA FACTOR 2—TEAMWORK/COOPERATION This factor, applicable to both formal and informal teams, measures individual and organizational teamwork and cooperation.: PERFORMANCE LEVEL DEFINITIONS—Level definitions in this table provide illustrations which describe the “high” score range for each pay band level: Level I Score Range Low 0-5 Med 6-27 High 28-32 | RATING CRITERIA FACTOR 2—TEAMWORK/COOPERATION This factor, applicable to both formal and informal teams, measures individual and organizational teamwork and cooperation.: PERFORMANCE LEVEL DEFINITIONS—Level definitions in this table provide illustrations which describe the “high” score range for each pay band level: Level II Score Range Low 24-32 ML 33-43 Med 44-55 MH 56-67 High 68-72 | RATING CRITERIA FACTOR 2—TEAMWORK/COOPERATION This factor, applicable to both formal and informal teams, measures individual and organizational teamwork and cooperation.: PERFORMANCE LEVEL DEFINITIONS—Level definitions in this table provide illustrations which describe the “high” score range for each pay band level: Level III Score Range Low 67-72 Med High 73-87 High 88-92 | RATING CRITERIA FACTOR 2—TEAMWORK/COOPERATION This factor, applicable to both formal and informal teams, measures individual and organizational teamwork and cooperation.: PERFORMANCE LEVEL DEFINITIONS—Level definitions in this table provide illustrations which describe the “high” score range for each pay band level: Level IV Score Range Low 86-92 Med 93-105 High 106-110 Very High 115
BASIC PERFORMANCE STANDARDS (Applicable accomplishments at all levels):
Work is timely, efficient, of acceptable quality. Personal and organizational interactions exhibit and foster cooperation and teamwork, Flexibility, adaptability, and decisiveness are exercised appropriately | Scope of Team Effort | Works with others to accomplish routine tasks | Works with others to accomplish projects/programs/functions | Works with others to accomplish complex projects/program/functions | Leads/guides/mentors workforce in dealing with complex problems.
| Contribution to Team | Contributes ideas in own area of expertise. Interacts cooperatively with others | Uses varied approaches to resolve or collaborate on project/program/function issues. Facilitates cooperative interactions with others | Applies innovative approaches to resolve unusual/difficult issues significantly impacting important public policies or programs. Promotes and maintains environment for cooperation and teamwork | Solves broad organizational issues. Implements strategic plans within and across organizational components. Ensures a cooperative teamwork environment.
| Effectiveness | Regularly completes assignments in support of team goals | Guides/supports others in executing team assignments. Proactively functions as an integral part of the team | Leads and guides others in formulating and executing team plans. Expertise is sought by peers | Leads/guides workforce in achieving organizational goals. Participates on high level teams. Is sought out for consultation.

| RATING CRITERIA FACTOR 2—TEAMWORK/COOPERATION This factor, applicable to both formal and informal teams, measures individual and organizational teamwork and cooperation.: Sub-Factors | RATING CRITERIA FACTOR 2—TEAMWORK/COOPERATION This factor, applicable to both formal and informal teams, measures individual and organizational teamwork and cooperation.: PERFORMANCE LEVEL DEFINITIONS—Level definitions in this table provide illustrations which describe the “high” score range for each pay band level Level V (Applicable to Employees in Pay Band Level V) Score Range Low 105-110 Med 111-115 High 116-120
BASIC PERFORMANCE STANDARDS (Applicable accomplishments at all levels):
Work is timely, efficient, of acceptable quality. Personal and organizational interactions exhibit and foster cooperation and teamwork. Flexible adaptability, and decisiveness are exercised appropriately | Scope of Team Effort | Develops alliances and team relationships at the strategic level. Directs teams in resolving issues with major organizational impact.
| Contribution to Team | Formulates strategic objectives and plans, and facilitates implementation. Fosters a cooperative teamwork environment.
| Effectiveness | Participates as a member of senior level teams. Charters teams on organizational level issues.

Table 1.—Performance Benchmarks for Broadband: Professional and Business Management (Continued)
| RATING CRITERIA FACTOR 3—CUSTOMER RELATIONS This factor measures the effectiveness of personal and organizational interactions with customers, both internal and external.: Sub-Factors | RATING CRITERIA FACTOR 3—CUSTOMER RELATIONS This factor measures the effectiveness of personal and organizational interactions with customers, both internal and external.: PERFORMANCE LEVEL DEFINITIONS—Level definitions in this table provide illustrations which describe the “high” score range for each pay band level: Level I Score Range Low 0-5 Med 6-27 High 28-32 | RATING CRITERIA FACTOR 3—CUSTOMER RELATIONS This factor measures the effectiveness of personal and organizational interactions with customers, both internal and external.: PERFORMANCE LEVEL DEFINITIONS—Level definitions in this table provide illustrations which describe the “high” score range for each pay band level: Level II Score Range Low 24-32 ML 33-43 Med 44-55 MH 56-67 High 68-72 | RATING CRITERIA FACTOR 3—CUSTOMER RELATIONS This factor measures the effectiveness of personal and organizational interactions with customers, both internal and external.: PERFORMANCE LEVEL DEFINITIONS—Level definitions in this table provide illustrations which describe the “high” score range for each pay band level: Level III Score Range Low 67-72 Med 73-87 High 88-92 | RATING CRITERIA FACTOR 3—CUSTOMER RELATIONS This factor measures the effectiveness of personal and organizational interactions with customers, both internal and external.: PERFORMANCE LEVEL DEFINITIONS—Level definitions in this table provide illustrations which describe the “high” score range for each pay band level: Level IV Score Range Low 86-92 Med 93-105 High 106-115
BASIC PERFORMANCE STANDARDS (Applicable accomplishments at all levels):
Work is timely, efficient, of acceptable quality. Personal and organizational interactions enhance customer relations and actively promote rapport with customers. Flexibility, adaptability, and decisiveness are exercised appropriately | Breadth of Influence | Independently carries out routine customer requests | Guides the technical/functional efforts of individuals or team members as they interact with customers | Guides and integrates functional efforts of individuals or teams with focus on quality in suport of customer interaction. Seeks innovative approaches to satisfy customers | Leads/guides/mentors workforce in dealing with complex problems.
| Customer Needs | Participants as a team member to meet customer needs | Initiates meetings and interactions with customers to understand customer needs/expectations | Establishes customer alliances, anticipates and fulfills customer needs and translates customer needs to programs/projects/functions | Works to assess and promulgate political, fiscal and other factors affecting customer and program/project/function needs. Works with customer at management levels to resolve problems affecting programs/projects.
| Customer Interaction Level | Interacts with customers on routine issues with appropriate guidance | Interacts independently with customers to communicate information and coordinate actions | Leads and guides others in formulating and executing team plans. Expertise is sought by peers | Works at senior level to stimulate customer alliances for program/project/function support. Stimulates, organizes and leads overall customer interactions.

| RATING CRITERIA FACTOR 3—CUSTOMER RELATIONS This factor measures the effectiveness of personal and organizational interactions with customers, both internal and external.: Sub-Factors | RATING CRITERIA FACTOR 3—CUSTOMER RELATIONS This factor measures the effectiveness of personal and organizational interactions with customers, both internal and external.: PERFORMANCE LEVEL DEFINITIONS—Level definitions in this table provide illustrations which describe the “high” score range for each pay band level: Level V (Applicable to Employees in Pay Band Level V) Score Range Low 105—110 Med 111—115 High 116—120
BASIC PERFORMANCE STANDARDS (Applicable accomplishments at all Influence strategic perspective levels):
Work is timely, efficient, of acceptable quality. Personal and organizational interactions enhance customer relations and actively promote rapport with customers. Flexibility, adaptability, and decisiveness are exercised appropriately | Breadth of Influence | Provides broad strategic perspective for development of organizational interactions with customers.
| Customer Needs | Works at senior level to influence political, fiscal, and other factors affecting customers and projects/programs.
| Customer Interaction Level | Provides technical and management consultation to stimulate customer alliances for program/project support. Acts as senior level resource for structuring and marketing customer interactions.

| RATING CRITERIA FACTOR 4—LEADERSHIP This factor measures individual and organizational leadership and/or supervisory contributions.: Sub-Factors | RATING CRITERIA FACTOR 4—LEADERSHIP This factor measures individual and organizational leadership and/or supervisory contributions.: PERFORMANCE LEVEL DEFINITIONS—Level definitions in this table provide illustrations which describe the “high” score range for each pay band level: Level I Score Range Low 0-5 Med 6-27 High 28-32 | RATING CRITERIA FACTOR 4—LEADERSHIP This factor measures individual and organizational leadership and/or supervisory contributions.: PERFORMANCE LEVEL DEFINITIONS—Level definitions in this table provide illustrations which describe the “high” score range for each pay band level: Level II Score Range Low 24-32 ML 33-43 Med 44-55 MH 56-67 High 68-72 | RATING CRITERIA FACTOR 4—LEADERSHIP This factor measures individual and organizational leadership and/or supervisory contributions.: PERFORMANCE LEVEL DEFINITIONS—Level definitions in this table provide illustrations which describe the “high” score range for each pay band level: Level III Score Range Low 67-72 Med 73-87 High 88-92 | RATING CRITERIA FACTOR 4—LEADERSHIP This factor measures individual and organizational leadership and/or supervisory contributions.: PERFORMANCE LEVEL DEFINITIONS—Level definitions in this table provide illustrations which describe the “high” score range for each pay band level: Level IV Score Range Low 86-92 Med 93-105 High 106-110 Very High 115
BASIC PERFORMANCE STANDARDS (Applicable accomplishments at all levels):
Work is timely, efficient, of acceptable quality. Leadership and/or supervision effectively promotes commitment to mission accomplishment. Flexibility, adaptability, and decisiveness are exercised appropriately | Leadership Role | Takes initiative in accomplishing assigned tasks | Actively contributes as a team member/leader; provides insight and recommends changes or solutions to problems | Provides guidance to individuals/teams; resolves conflicts. Considered a functional/technical expert by other in the organization; is regularly sought out by other for advice and assistance | Establishes and/or leads teams to carry out complex projects or programs. Resolves conflicts. Creates climate where empowerment and creativity thrive. Recognized as a technical/functional authority on specific issues.
| Breadth of Influence | Provides inputs to others in own technical/functional area | Proactively guides, coordinates, and consults with others to accomplish projects | Defines, organizes and assigns activities to accomplish project/program goals. Guides, motivates and oversees the activities of individuals and teams with focus on project/program/function issues | Leads, defines, manages and integrates efforts of several groups or teams. Ensures organizational mission and program success.
| Mentoring/Employee Development | Seeks and takes advantage of developmental opportunities | Identifies and pursues individual/team development opportunities | Fosters individual/team development by mentoring. Pursues or creates training development programs for self and others | Fosters the development of other teams members by providing guidance or sharing expertise. Directs assignments to encourage employee development and cross-functional growth to meet organizational needs. Pursues self-professional development.

| RATING CRITERIA FACTOR 4—LEADERSHIP This factor measures individual and organizational leadership and/or supervisory contributions.: Sub-Factors | RATING CRITERIA FACTOR 4—LEADERSHIP This factor measures individual and organizational leadership and/or supervisory contributions.: PERFORMANCE LEVEL DEFINITIONS——Level definitions in this table provide illustrations which describe the “high” score range for each pay band level: Level V (Applicable to Employees in Pay Band Level V) Score Range Low 105—110 Med 111—115 High 116—120
BASIC PERFORMANCE STANDARDS (Applicable accomplishments at all levels):
Work is timely, efficient, of acceptable quality. Leadership and/or supervision effectively promotes commitment to mission accomplishment. Flexibility, adaptability, and decisiveness are exercised appropriately | Leadership Role | Establishes organizational strategic objectives. Coordinates and forms cross component/Service/industry alliances to attain objectives and mission goals.
| Breadth of Influence | Leads, manages and integrates organizational efforts to meet strategic goals. Assesses and redefines organizational and mission focus to adapt to economic and political influences.
| Mentoring/Employee Development | Creates organizational climate where mentoring and employee development thrive. Creates career and professional development opportunities. Develops senior leaders within the organization. Shares experience and expertise.

Table 1.—Performance Benchmarks for Broadband: Professional and Business Management (Continued)
| RATING CRITERIA FACTOR 5—COMMUNICATION This factor measures the effectiveness of oral/written communications.: Sub-Factors | RATING CRITERIA FACTOR 5—COMMUNICATION This factor measures the effectiveness of oral/written communications.: PERFORMANCE LEVEL DEFINITIONS—Level definitions in this table provide illustrations which describe the “high” score range for each pay band level: Level I Score Range Low 0-5 Med 6-27 High 28-32 | RATING CRITERIA FACTOR 5—COMMUNICATION This factor measures the effectiveness of oral/written communications.: PERFORMANCE LEVEL DEFINITIONS—Level definitions in this table provide illustrations which describe the “high” score range for each pay band level: Level II Score Range Low 24-32 ML 33-43 Med 44-55 MH 56-67 High 68-72 | RATING CRITERIA FACTOR 5—COMMUNICATION This factor measures the effectiveness of oral/written communications.: PERFORMANCE LEVEL DEFINITIONS—Level definitions in this table provide illustrations which describe the “high” score range for each pay band level: Level III Score Range Low 67-72 Med 73-87 High 88-92 | RATING CRITERIA FACTOR 5—COMMUNICATION This factor measures the effectiveness of oral/written communications.: PERFORMANCE LEVEL DEFINITIONS—Level definitions in this table provide illustrations which describe the “high” score range for each pay band level: Level IV Score Range Low 86-92 Med 93-105 High 106-110 Very High 115
BASIC PERFORMANCE STANDARDS (Applicable accomplishments at all levels):
Work is timely, efficient, of acceptable quality. Communications are clear, concise, and at appropriate level. Flexibility, adaptability, and decisiveness are exercised appropriately | Level of Interaction (Audience) | Communicates routine task status results as required | Communicates team or group tasking results, internally and externally, at peer levels | Communicates project or program results to all levels, internally and externally | Determines and communicates organizational positions on major projects or policies to senior level.
| Written | Provides timely data and written analyses for input to management/technical reports or contractual documents | Writes, or is a major contributor to, management/technical reports or contractual documents | Reviews and approves, or is a major contributor to lead author of management reports or contractual documents for external distribution. Provides input to policies | Prepares, reviews and approves major reports or policies of organization for internal and external distribution. Resolves divers viewpoints/controversial issues.
| Oral | Explains status/results of assigned tasks | Presents informational briefings | Presents briefings to obtain consensus/approval | Presents organizational briefings to convey strategic vision or organizational policies.

| RATING CRITERIA FACTOR 5—COMMUNICATION This factor measures the effectiveness of oral/written communications.: Sub-Factors | RATING CRITERIA FACTOR 5—COMMUNICATION This factor measures the effectiveness of oral/written communications.: PERFORMANCE LEVEL DEFINITIONS—Level definitions this table provide illustrations which describe the “high” score range for each pay band level: Level V (Applicable to Employees in Pay Band Level V) Score Range Low 105—110 Med 111—115 High 116—120
BASIC PERFORMANCE STANDARDS (Applicable accomplishments at all Interaction communicates levels):
Work is timely, efficient, of acceptable quality. Communications are clear, concise, and at appropriate level. Flexibility, adaptability, and decisiveness are exercised appropriately | Level of Interaction (Audience) | Determines and communicates strategic positions across agencies, Services, international entities, or industries.
| Written | Reviews and approves strategic documents; authors executive reports/opinions for presentation to DoD forums that may have industry-wide impacts.
| Oral | Delivers senior-levels presentations to DoD and/or defense industry leaders conveying program mission or strategic objectives.

| RATING CRITERIA FACTOR 6—RESOURCE MANAGEMENT This factor measures personal and organizational utilization of resources to accomplish the mission. (Resources include but are not limited to personal time, equipment and facilities, human resources and funds.): Sub-Factors | RATING CRITERIA FACTOR 6—RESOURCE MANAGEMENT This factor measures personal and organizational utilization of resources to accomplish the mission. (Resources include but are not limited to personal time, equipment and facilities, human resources and funds.): PERFORMANCE LEVEL DEFINITIONS—Below level definitions provide illustrations which describe the “high” score range for each pay band level: Level I Score Range Low 0-5 Med 6-27 High 28-32 | RATING CRITERIA FACTOR 6—RESOURCE MANAGEMENT This factor measures personal and organizational utilization of resources to accomplish the mission. (Resources include but are not limited to personal time, equipment and facilities, human resources and funds.): PERFORMANCE LEVEL DEFINITIONS—Below level definitions provide illustrations which describe the “high” score range for each pay band level: Level II Score Range Low 24-32 ML 33-43 Med 44-55 MH 56-67 High 68-72 | RATING CRITERIA FACTOR 6—RESOURCE MANAGEMENT This factor measures personal and organizational utilization of resources to accomplish the mission. (Resources include but are not limited to personal time, equipment and facilities, human resources and funds.): PERFORMANCE LEVEL DEFINITIONS—Below level definitions provide illustrations which describe the “high” score range for each pay band level: Level III Score Range Low 67-72 Med 73-87 High 87-92 | RATING CRITERIA FACTOR 6—RESOURCE MANAGEMENT This factor measures personal and organizational utilization of resources to accomplish the mission. (Resources include but are not limited to personal time, equipment and facilities, human resources and funds.): PERFORMANCE LEVEL DEFINITIONS—Below level definitions provide illustrations which describe the “high” score range for each pay band level: Level IV Score Range Low 86-92 Med 93-105 High 106-110 Very High 115
BASIC PERFORMANCE STANDARDS (Applicable accomplishments at all levels): | Scope of Responsibility | Uses assigned resources needed to accomplish tasks | Plans and utilizes appropriate resources to accomplish project goals | Plans and allocates resources to accomplish multiple project/programs | Develops, acquires, and allocates resources to accomplish mission goals and strategic objectives.
Work is timely, efficient, of acceptable quality. Resources are utilized effectively to accomplish the mission. Flexibility, adaptability, and decisiveness are exercised appropriately
| Planning/Budgeting | Plans individual time and assigned resources to accomplish tasks | Optimizes resources to accomplish projects/programs within established schedules | Identifies and optimizes resources to accomplish multiple project/program goals | Formulates organizational strategies, tactics, and budget/action plan to acquire and allocate resources.
| Execution/Efficiency | Effectively accomplishes assigned tasks | Effectively accomplishes project/program goals within established resource guidelines | Effectively accomplishes multiple project/program goals within established guidelines | Optimizes, controls and manages all resources across project/programs. Develops and integrates innovative approaches to attain goals and minimize expenditures.

Table 1.—Performance Benchmarks for Broadband: Professional and Business Management—(Continued)
| RATING CRITERIA FACTOR 6—RESOURCE MANAGEMENT This factor measures personal and organizational utilization of resources to accomplish the mission. (Resources include but are not limited to personal time, equipment and facilities, human resources and funds.): Sub-Factors | RATING CRITERIA FACTOR 6—RESOURCE MANAGEMENT This factor measures personal and organizational utilization of resources to accomplish the mission. (Resources include but are not limited to personal time, equipment and facilities, human resources and funds.): PERFORMANCE LEVEL DEFINITIONS—Level definitions in this table provide illustrations which describe the “high” score range for each pay band level: Level V (Applicable to Employees in Pay Band Level V) Score Range Low 105—110 Med 111—115 High 116—120
BASIC PERFORMANCE STANDARDS (Applicable accomplishments at all levels):
Work is timely, efficient, of acceptable quality. Resources are utilized effectively to accomplish the mission. Flexibility, adapatability, and decisiveness are exercised appropriately | Scope of Responsibility | Leads the strategic resources planning process for the organization. Advises senior-level management/DoD on resource issues.
| Planning/Budgeting | Administers organizational resources to achieve goals.
| Execution/Efficiency | Promulgates innovative organizational strategies to maximize resource utilization.

Table 2.—Performance Benchmarks for Broadband: Technical Support
| Sub-Factors | PERFORMANCE LEVEL DEFINITIONS—Level definitions in this table provide illustrations which describe the “high” score range for each pay band level: Level I Score Range Low 0-5 Med 6-27 High 28-32 | PERFORMANCE LEVEL DEFINITIONS—Level definitions in this table provide illustrations which describe the “high” score range for each pay band level: Level II Score Range Low 24-32 ML 33-38 Med 39-44 MH 45-51 High 52-56 | PERFORMANCE LEVEL DEFINITIONS—Level definitions in this table provide illustrations which describe the “high” score range for each pay band level: Level III Score Range Low 47-56 Med 57-67 High 68-72 | PERFORMANCE LEVEL DEFINITIONS—Level definitions in this table provide illustrations which describe the “high” score range for each pay band level: Level IV Score Range Low 67-72 Med 73-87 High 88-92 | PERFORMANCE LEVEL DEFINITIONS—Level definitions in this table provide illustrations which describe the “high” score range for each pay band level: Level V Score Range Low 86-92 Med 93-105 High 106-110 Very High 115
RATING CRITERIA FACTOR 1—PROBLEM SOLVING
This factor measures personal and organizational problem solving results.
BASIC PERFORMANCE STANDARDS (Applicable accomplishments at all levels):
Work is timely, efficient, of acceptable quality and is performed on a regular basis. Completed work meets project/program/function objectives. Flexibility, adaptability, and decisiveness are exercised appropriately | Scope/Impact | Conducts activities on a task; assists supervisor or other appropriate personnel | Plans and conducts technical activities for projects | Plans and conducts challenging and difficult technical activities for projects/programs/function | Identifies and resolves complex problems that may cross functional/technical boundaries and promulgates solutions | Defines, establishes & directs organizational focus (on challenging & highly complex projects/programs/functions). Identifies & resolves highly complex problems that cross organizational boundaries & promulgates solutions. Resolution of problems requires mastery of the field to develop new hypotheses or fundamental new concepts.
| Complexity/Difficulty | Resolves routine problems within established guidelines | Identifies and resolves non-routine technical problems utilizing established patterns and methods | Develops, integrates and implements solutions to complex problems on projects/programs | Develops, integrates implements solutions to diverse, complex problems which may cross multiple projects/programs or functional/technical areas | Assesses and provides strategic direction for resolution of mission critical problems, policies and procedures.
| Independence | Works with others in solving problems with appropriate guidance | Identifies and resolves problems, adapts accepted policies, procedures or methods with moderate guidance | Identifies problems, develops solutions and action plans with minimal guidance | Independently resolves and coordinates technical problems involving multiple projects/programs | Works at senior level to define, integrate, & implement strategic direction for vital programs with long term impact on large numbers of people. Initiates actions to resolve major organizational issues. Promulgates innovative solutions and methodologies.
| Creativity | Takes initiative in selecting and implementing appropriate procedures | Adapts existing plans and techniques to accomplish projects | Develops plans and techniques to fit new situations | Develops plans and techniques top fit new situations and/or to address issues that cross technical/functional areas | Works with senior management to establish new fundamental concepts and criteria and stimulate the development of new policies, methodologies, and techniques. Converts strategic goals into programs or policies.
RATING CRITERIA FACTOR 2—TEAMWORK/COOPERATION
This factor, applicable to both formal and informal teams, measures individual and organizational teamwork and cooperation.
BASIC PERFOR-MANCE STANDARDS (Applicable accomplish-ments at all levels):
Work is timely, efficient, of acceptable quality. Personal and organizational interactions exhibit and foster cooperation and teamwork. Flexibility, adaptability, and decisiveness are exercised appropriately | Scope of Team Effort | Works with others to accomplish routine tasks | Works with others to accomplish projects | Works with others to accomplish complex projects/programs | Leads/guides/mentors workforce in dealing with complex problems | Leads/guides/mentors workforce in dealing with complex problems.
| Contribution to Team | Contributes ideas in own area of expertise. Interacts cooperatively with others | Contributes ideas in own area of expertise. Facilitates cooperative interactions with others | Assists others to resolve or collaborate on complex to project/program issues. Promotes cooperative interactions with others | Solves broad organizational issues. Implements strategic plans within and across organizational components. Ensures a cooperative teamwork environment | Solves broad organizational issues. Implements strategic plans within and across organizational components. Ensures a cooperative teamwork environment.
| Effectiveness | Regularly completes assignments in support of team goals | Supports others in executing team assignments. Proactively functions as an integral part of the team | Integrates technical expertise and guides activities to support team accomplishment | Leads/guides workforce in achieving organizational goals. Participates on high level teams. Is sought out for consultation | Leads/guides workforce in achieving organizational goals. Participates on high level teams. Is sought out for consultation.
RATING CRITERIA FACTOR 3—CUSTOMER RELATIONS
This factor measures the effectiveness of personal and organizationalinteractions with customers, both internal and external.
BASIC PERFOR- MANCE STANDARDS (Applicable accomplishments at all levels):
Work is timely, efficient, of acceptable quality. Personal and organizational interactions enhance customer relations and actively promote rapport with customers. Flexibility, adaptability, and decisiveness are exercised appropriately | Breadth of Influence | Assists customer support activities | Actively participates with others to satisfy customer requests | Guides the technical efforts of individuals or teams as they relate with customers. Deviates from standard approach when necessary | Leads and coordinates technical efforts of individuals or teams in support of customer interactions. Develops innovative approaches to satisfy customers | Leads and manages the organizational interactions with customers from a strategic standpoint.
| Customer Needs | Participates as a team member to meet customer needs | Interacts with customers to respond to customer needs/expectations | Initiate meetings and interactions with customers to understand customer needs/expectations | Establishes customer alliance; anticipates and fulfills customer needs and translates customer needs to project/programs. Organizes and leads customer interactions | Woks to assess and promulgate political, fiscal and other factors affecting customer at management levels to resolve problems affecting programs/projects.
| Customer Interaction Level | Interacts with customers on routine issues with appropriate guidance | Interacts independently with customer to communicate information and coordinate actions | Interacts independently with customers on proactive basis to identify/define problems and to implement solutions | Interacts with customers on proactive basis to identify and define complex/controversial problems and to develop and implement strategies or techniques for resolving project/program issues | Works at senior level to stimulate customer alliances for program/project/function support. Stimulates, organizes and leads overall customer interactions.
RATING CRITERIA FACTOR 4—LEADERSHIP
This factor measures individual and organizational leadership and/or supervisory contributions.
BASIC PERFORMANCE STANDARDS (Applicable accomplishment at all levels):
Work is timely, efficient, of acceptable quality. Leadership and/or supervision effectively promotes commitment to mission accomplishment. Flexibility, adaptability, and decisiveness are exercised approximately | Leadership role | Takes initiate in accomplishing assigned tasks. Asks for assistance as appropriate | Actively contributes as a team member; takes initiative to accomplish assigned projects | Actively contributes as team member or leader. Recognized for functional/technical expertise | Provides guidance to individuals/teams; resolves conflicts. Serves as subject matter expert | Establishes and/or leads teams to carry out complex projects or programs. Resolves conflicts. Creates climate where empowerment and creativity thrive. Recognized as a technical/functional authority on specific issues.
| Breadth of Influence | Provides inputs to others in own technical/functional area | Consults and coordinates with others to complete projects within established guidelines | Defines, organizes and assigns activities to accomplish goals. Guides, motivates and oversees others in accomplishing project/programs | Guides, motivates and oversees multiple complex projects/programs | Leads, defines, manages and integrates efforts of several groups or teams. Ensures organizational mission and program success.
| Mentoring/Employee Development | Seeks and takes advantage of developmental opportunities | Identifies and pursues individual/team developmental opportunities | Promotes developmental opportunities for self and team. Advises others to seek specific training | Directs assignments to encourage employee development and cross technical/functional growth to meet organizational needs. Pursues self-development | Fosters the development of other team members by providing guidance or sharing expertise. Directs assignments to encourage employee development and cross-functional growth to meet organizational needs. Pursues self-professional development
RATING CRITERIA FACTOR 5—COMMUNICATION
This factor measures the effectiveness of oral/written communications.
BASIC PERFORMANCE STANDARDS (Applicable accomplishments at all levels):
Work is timely, efficient, of acceptable quality. Communications are clear, concise, and at appropriate level. Flexibility adaptability, and decisiveness are exercised appropriately | Level of Interaction (Audience) | Communicate s routine task status results as required | Communicates at equivalent levels within the agency, team, or group project status/results | Communicates project/program status/results to management | Determines and communicates projects/policies positions at senior levels | Determines and communicates organizational positions on major projects or policies to senior levels.
| Written | Writes timely and accurate draft documentation of assigned tasks for input to reports or documents | Writes segments of management/technical reports of documents | Consolidates input and writes management/technical reports/documents for project programs | Prepares, reviews and approves management/technical reports for internal and external distribution | Prepares, reviews and approves major reports or policies of organization for internal and eternal distribution. Resolves diverse viewpoints/controversial issues.
| Oral | Explains status/results of assigned tasks | Communicates group/team results | Presents project/program briefings | Presents projects/program briefings to obtain consensus/approval. Represents the organization as technical subject matter expert | Present organizational briefings to convey strategic vision or organization polices.
RATING CRITERIA FACTOR 6—RESOURCE MANAGEMENT
This factor measures personal and organizational utilization of resources to accomplish the mission. (Resources include but are not limited to personal time, equipment and facilities, human resources and funds.)
BASIC PERFORMANCE STANDARDS (Applicable accomplishments at all levels):
Work is timely, efficient, of acceptable quality. Resources are utilized effectively to accomplish the mission. Flexibility, adaptability, and decisiveness are exercised appropriately | Scope of Responsibility | Uses assigned resources to accomplish tasks | Identifies and uses resources to accomplish projects | Plans and utilizes appropriates resources to accomplish projects/programs | Plans and allocates resources to accomplish multiple project/program goals | Develops, acquires, and allocates resources to accomplish mission goals and strategic objectives.
| Planning/Budgeting | Plans individual to time accomplish tasks | Plans resources to achieve task schedules | Optimizes resources to accomplish projects within established milestones | Identifies and optimizes resources to accomplish multiple project/program goals | Formulates organizational strategies, tactics, and budget/action plan to acquire and allocate resources.
| Execution/Efficiency | Effectively accomplishes assigned tasks with appropriate guidance | Independently accomplishes assigned tasks | Effectively accomplishes projects/programs within established resource guidelines | Effectively accomplishes multiple project/program goals within established thresholds. Develops innovative approaches to attain goals and minimize resource expenditures | Optimizes, controls and manages all resources across project/programs. Develops and integrates innovative approaches to attain goals and minimize expenditures.

Table 3.—Performance Benchmarks for Broadband: General Support
| Sub-Factors | PERFORMANCE LEVEL DEFINITIONS—Level definitions in this table provide illustrations which describe the “high” score range for each pay band level: Level I Score Range Low 0-5 Med 6-27 High 28-32 | PERFORMANCE LEVEL DEFINITIONS—Level definitions in this table provide illustrations which describe the “high” score range for each pay band level: Level II Score Range Low 24-32 Med 33-45 High 46-50 | PERFORMANCE LEVEL DEFINITIONS—Level definitions in this table provide illustrations which describe the “high” score range for each pay band level: Level III Score Range Low 41-50 Med 51-62 High 63-67 | PERFORMANCE LEVEL DEFINITIONS—Level definitions in this table provide illustrations which describe the “high” score range for each pay band level: Level IV Score Range Low 57-67 Med 68-87 High 88-92 Very High 96
RATING CRITERIA FACTOR 1—Problem Solving
This factor measures personal and organizational problem solving results.
BASIC PERFORMANCE STANDARDS (Applicable accomplishments at all levels):
Work is timely, efficient, of acceptable quality and is performed on a regular basis. Completed work meets project/program/function objectives. Flexibility, adaptability, and decisiveness are exercised appropriately | Scope/Impact | Conducts activities on a segment of a task. Assists supervisor or other appropriate personnel | Plans and conducts administrative activities for projects | Plans and conducts complex administrative activities | Independently plans & conducts a complex multi-faceted program, or the operations of a complex multi-faceted organization.
| Complexity/Difficulty | Applies standard rules, procedures, or operations to resolve routine problems | Develops, modifies and/or applies rules, procedures or operations to resolve problems of moderate complexity/difficulty | Develops rules, procedures, or operations for complex/difficult organizational tasks | Develops, integrates & implements organization/program, policies and procedures.
| Independence | Independently carries out routine tasks | Independently plans and executes assignments; resolves problems and handles deviations | Identifies issues and determines approaches and methods to accomplish tasks. Initiates effective actions and resolves related conflicts | Independently solves organization/program problems.
| Creativity | Takes initiative in selecting and implementing appropriate procedures | Identifies and and adapts guidelines for new or unusual situations | Identifies issues requiring new procedures and develops appropriate guidelines | Develops program/organization operating procedures and guidelines to fit new circumstances/situations and to improve overall program and policies.
BASIC PERFORMANCE STANDARDS (Applicable accomplishments at all levels):
Work is timely, efficient, of acceptable quality. Personal and organizational interactions exhibit and foster cooperation and teamwork. Flexibility, adaptability, and decisiveness are exercised appropriately | Scope of Team Effort | Works with others to accomplish routine tasks | Works with others to accomplish tasks | Works with others to accomplish complex issues/problems that may cross functional areas | Coordinates with others from other functions/programs to assure integration and accomplishment of complex programs.
| Contribution to Team | Contributes ideas in own area of expertise. Interacts cooperatively with others | Resolves administrative problems; facilitates cooperative interactions with others | Applies expertise in resolving complex administrative issues. Promotes and maintains environment for cooperation and teamwork. Sets tone for internal/external cooperation | Applies innovative approaches to resolve complex programmatic issues. Promotes and maintains environment for cooperation/teamwork. Sets tone for internal/external cooperation.
| Effectiveness | Regularly completes assignments in support of team goals | Guides others and coordinates activities in support of team goals. Proactively functions as an integral part of the team | Leads and guides others in formulating and executing plans in support of team goals | Leads and guides others in formulating and executing team plans. Expertise is sought by peers.
RATING CRITERIA FACTOR 3—CUSTOMER RELATIONS
This factor measures the effectiveness of personal and organizational interactions with customers, both internal and external.
BASIC PERFORMANCE STANDARDS (Applicable accomplishments at all levels):
Work is timely, efficient, of acceptable quality. Personal and organizational interactions enhance customer relations and actively promote rapport with customers. Flexibility, adaptability, and decisiveness are exercised appropriately | Breadth of Influence | Assists customer support activities | Guides the administrative efforts of individuals or team members as they interact with customers | Identifies, defines and guides administrative efforts in support of customer interactions; coordinates and focuses activities to support multiple customers | Guides and integrates program/organization efforts with focus on quality; seeks innovative approaches to satisfy wide variety of customers.
| Customer Needs | Meets routine customer needs | Initiates interactions with customers to understand customer needs/expectations | Establishes customer alliances, and translates needs to customer service | Establishes customer alliances, anticipates & fulfills customer needs and translates customers requirements to program/projects/functions.
| Customer Interaction Level | Interacts with customers on routine issues with appropriate guidance | Interacts independently with customer to communicate information and coordinate actions | Works independently with customers at all levels to define services and resolve non-routine problems | Interacts independently with a wide variety of customers on proactive basis to identify, define and resolve complex/difficult problems with program implications.
RATING CRITERIA FACTOR 4—LEADERSHIP
This factor measures individual and organizational leadership and/or supervisory contributions.
BASIC PERFORMANCE STANDARDS (Applicable accomplishments at all levels):
Work is timely, efficient, of acceptable quality. Leadership and/or supervision effectively promotes commitment to mission accomplishment. Flexibility, adaptability, and decisiveness are exercised appropriately | Leadership Role | Takes initiative in accomplishing assigned tasks. Asks for assistance as appropriate | Actively contributes as a team member or leader; takes initiative to accomplish assigned projects | Provides guidance to individuals/teams; resolves conflicts. Expertise solicited by others | Establishes and/or leads teams to carry out complex programs. Resolves conflicts. Recognized as technical authority on program.
| Breadth of Influence | Provides inputs to others in own technical/functional area | Guides others in accomplishing projects | Guides and accounts for results or activities of individuals, teams or projects | Leads, defines, manages and accounts for results and activities of groups or teams. Ensures organizational mission and program success.
| Mentoring/Employee Development | Seeks and takes advantage of developmental opportunities | Idenifies and pursues individual/team development opportunities | Promotes individual/team development; leads and development of training programs for self and others | Fosters the development of other teams members by providing guidance or sharing expertise. Directs assignments to encourage employee development and cross-functional growth to meet organizational needs. Pursues self-professional development.
RATING CRITERIA FACTOR 5—COMMUNICATION
This factor measures the effectiveness of oral/written communications.
BASIC PERFORMANCE STANDARDS (Applicable accomplishments at all levels): | Level of Interaction (Audience) | Communicates routine task status results as required | Interprets and communicates administrative procedures within immediate organization | Develops and advises on administrative procedures. Communicates them to all levels, both internally and externally | Determines and communicates positions on a multi-faceted program/organization to senior level.
Work is timely, efficient, of acceptable quality. Communications are clear, concise, and at appropriate level. Flexibility, adaptability, and decisiveness are exercise appropriately
| Written | Writes timely and accurate draft document | Prepares, coordinates, and consolidates documents, reports, or briefing | Prepares, reviews and/or approves documents, reports, or briefing | Prepares, reviews and approves program regulations, policies, and plans for internal and external distribution. Resolves divers viewpoints/controversial issues.
| Oral | Explains status/results of assigned task | Communicates/presents internal administrative/functional procedures and tasks internally and externally | Explains and/or communications administrative/functional procedures at all levels | Presents organizational briefings on program/organization policies, plans, and regulations/operations at all levels.
RATING CRITERIA FACTOR 6—RESOURCE MANAGEMENT
This factor measures personal and organizational utilization of resources to accomplish the mission. (Resources include but are not limited to personal time, equipment and facilities, human resources and funds.)
BASIC PERFORMANCE STANDARDS (Applicable accomplishments at all levels):
Work is timely, efficient, of acceptable quality. Resources are utilized effectively to accomplish the mission. Flexibility, adaptability, and decisiveness are exercised appropriately | Scope of Responsibility | Uses assigned resources needed to accomplish tasks | Identifies and uses resources to accomplish projects | Plans, acquires and allocates resources to accomplish objectives | Develops, acquires and allocates resources to accomplish program goals and objectives.
| Planning/Budgeting | Plans individual time and assigned resources to accomplish tasks | Plans resources to achieve project schedules | Coordinates resources across projects | Formulates program strategies, tactics, and budget/action plan to acquire and allocate resources.
| Execution/Efficiency | Effectively accomplishes assigned tasks | Effectively accomplishes projects within established resource guidelines | Optimizes resource utilization across projects | Optimizes, controls and manages all resources across organization/programs. Develops and integrates innovative approaches to attain goals and minimize expenditures.

BILLING CODE 5001-08-P

BILLING CODE 5001-08-C

Appendix E—Project Evaluation Model

Interventions and expected effects | Measures | Data sources
1. Simplified Accelerated Hiring:
A. Ease of hiring | I. Perceived flexibility | a. Attitude survey
B. Improved recruitment | I. Offer/accept rations II. Percent declinations | a. Personnel office data a. Personnel office data
C. Increased quality of new hires | I. Employee effectiveness II. Experience, education, skills | a. Attitude survey
D. Reduced administrative workload/paperwork reduction | I. Actual/perceived time savings | a. Personnel office data b. Attitude survey
E. Retention | I. Employee turnover | a. Personnel office data
2. Expanded Candidate Selection Process:
A. Flexibility in recruitment | I. Perceived flexibility II. Number/percentage of employees hired beyond high 3 | a. Attitude survey a. Workforce data
B. Increased quality of new hires | I. Employee effectiveness II. Experience, educational skills | a. Attitude survey
3. Appointment Authority (Permanent, Modified Term, Temporary Limited):
A. Increased capability to expand and contract workforce | I. Number/percentage of contingent employees | a. Workforce data
| II. Conversion rate to permanent status | a. Workforce data b. Personnel office data
| III. Average length of employment (contingent hires) | a. Workforce data b. Personnel office data
B. Reduced administrative workload | i. Actual/perceived time savings | a. Attitude survey b. Personnel office data
C. More experienced personnel entering permanent workforce | I. Mission effectiveness | a. Attitude survey
D. Ease in filing permanent billets (non-competitive conversion) | I. Number/percentage of conversion from modified term to permanent appointments | a. Workforce data b. Personnel office data
4. Flexible/Probationary Period:
A. Expanded employee assessment period | I. Average conversion period to | a. Workforce data b. Personnel office data
| II. Number/percentage of employees completing probationary period | a. Workforce data b. Personnel office data
5. The TACOM Appraisal & Performance and Performance Payout System (TAPPS):
I. Performance Benchmarks:
A. Increased pay-accomplishment link | I. Pay-contribution correlations | a. Attitude survey b. Comparison of historical data on compensation.
| II. Perceived pay-contribution link III. Perceived fairness of ratings IV. Satisfaction with ratings V. Employees trust in supervisors | a. Personnel office data a. Attitude survey a. Attitude survey a. Attitude survey
B. Improved accomplishment and performance feedback | I. Adequacy of accomplishment and performance feedback | a. Attitude survey
C. Increased retention of contributions | I. Turnover by accomplishment assessment | a. Attitude survey
D. Increased turnover of low contributors | I. Turnover by accomplishment assessment | a. Attitude survey
II. Base Salary Increase and Bonus Funds and the Educational Development Share/Bonus:
A. Reward/motivate accomplishment and performance | I. Amount & number of awards by career path, demographics | a. Workforce data
| II. Perceived motivational power | a. Attitude survey
| III. Perceived fairness of awards | a. Attitude survey
6. Broadbanding:
A. Increased organizational flexibility | I. Perceived flexibility | a. Attitude survey
B. Reduced administrative workload/paperwork reduction | I. Actual/perceived time savings | a. Personnel office data b. Attitude survey
C. Higher starting salaries | I. Starting salaries of banded vs. non-banded employees | a. Workforce data
D. More gradual pay progression at entry level | I. Progression of new hires over time by band and career path. | a. Workforce data
E. Increased pay potential | I. Mean salaries by band, career path, demographics | a. Workforce data
F. Higher average salary | I. Total payroll cost | a. Workforce data
G. Increased satisfaction with advancement | I. Employees perception of advancement | a. Attitude survey
H. Increased pay satisfaction | I. Pay satisfaction, internal/external equity | a. Attitude survey
7. Simplified Classification:
A. Ease of classification | I. Perceived flexibility II. Fewer position requirements documents | a. Attitude survey a. Workforce data b. Personnel office data
B. Reduced admin workload paperwork reduction | I. Actual/perceived time | a. Personnel office data b. Attitude survey
8. Simplified modified RIF:
A. Prevent loss of high-performing employees with needed skills | I. Separate employees by demographics, performance II. Satisfaction with RIF process | a. Workforce data b. Attitude survey/focus groups
B. Contain cost and disruption | I. Number of employees affected by RIF II. Time to conduct RIF III. Number of appeals/reinstatements | a. Personnel office data
9. Employee Development:
A. Increased employee career progression | I. Demographics of affected employees II. Employee/management satisfaction | a. Workforce data a. Attitude survey
B. Increased capability/flexibility for workforce shaping | III. Perceived flexibility | a. Attitude survey
10. Sabbaticals:
A. Increased employee career progression | I. Demographics of affected employees II. Employee/management satisfaction | a. Workforce data a. Attitude survey
B. Increased capability/flexibility for workforce shaping | I. Perceived flexibility | a. Attitude survey
11. Voluntary Emeritus Program:
A. Encourage voluntary retirement and open up hiring slots for new staff | I. Frequency of use and cost | a. Workforce data

[FR Doc. 01-28550 Filed 11-15-01; 8:45 am]

BILLING CODE 5001-08-P